DEPARTMENT OF HOUSING AND URBAN DEVELOPMENT

[Docket No. FR-4980-N-34]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Kathy Ezzell, room 7266, Department of Housing and Urban Development, 451 Seventh Street SW., Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to John Hicks, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Army: Ms. Audrey C. Ormerod, Department of the Army, Office of the Assistant Chief of Staff for Installation Management, Attn: DAIM-MD, Room 1E677, 600 Army Pentagon, Washington, DC 20310-0600; (703) 601-2520; (These are not toll-free numbers).

Dated: August 18, 2005.
Mark R. Johnston,
Director, Office of Special Needs Assistance Programs.

Title V, Federal Surplus Property Program, Federal Register Report for 8/26/05

Suitable/Available Properties

Buildings (by State)

Alaska

Armory

NG Noorvik

Noorvik AK 99763-

Landholding Agency: Army

Property Number: 21200110075

Status: Unutilized

Comment: 1200 sq. ft., most recent use—armory, off-site use only

Bldg. 00001

Kiana Natl Guard Armory

Kiana AK 99749-

Landholding Agency: Army

Property Number: 21200340075

Status: Excess

Comment: 1200 sq. ft., butler bldg., needs repair, off-site use only

Bldg. 00001

Wainwright Armory

Wainwright Co: AK 99782-

Landholding Agency: Army

Property Number: 21200510055

Status: Excess

Comment: 1200 sq. ft., presence of asbestos, most recent use—storage

Arizona

Bldg. 30012, Fort Huachuca

Sierra Vista Co: Cochise AZ 85635-

Landholding Agency: Army

Property Number: 21199310298

Status: Excess

Comment: 237 sq. ft., 1-story block, most recent use—storage

Bldg. S-306

Yuma Proving Ground

Yuma Co: Yuma/La Paz AZ 85365-9104

Landholding Agency: Army

Property Number: 21199420346

Status: Unutilized

Comment: 4103 sq. ft., 2-story, needs major rehab, off-site use only

Bldg. 503, Yuma Proving Ground

Yuma Co: Yuma AZ 85365-9104

Landholding Agency: Army

Property Number: 21199520073

Status: Underutilized

Comment: 3789 sq. ft., 2-story, major structural changes required to meet floor loading & fire code requirements, presence of asbestos, off-site use only

Bldg. 43002

Fort Huachuca

Cochise Co: AZ 85613-7010

Landholding Agency: Army

Property Number: 21200440066

Status: Excess

Comment: 23,152 sq. ft., presence of asbestos/lead paint, most recent use—dining, off-site use only

California

Bldgs. 18026, 18028

Camp Roberts

Monterey CA 93451-5000

Landholding Agency: Army

Property Number: 21200130081

Status: Excess

Comment: 2024 sq. ft. & 487 sq. ft., concrete, poor condition, off-site use only

Colorado

Bldg. T-108

Fort Carson

Ft. Carson Co: El Paso CO 80913-

Landholding Agency: Army

Property Number: 21200130083

Status: Unutilized

Comment: 9000 sq. ft., poor condition, possible asbestos/lead paint, most recent use—storage, off-site use only

Bldg. T-209

Fort Carson

Ft. Carson Co: El Paso CO 80913-

Landholding Agency: Army

Property Number: 21200130084

Status: Unutilized

Comment: 400 sq. ft., poor condition, possible asbestos/lead paint, most recent use—maint. shop, off-site use only

Bldg. T-217

Fort Carson

Ft. Carson Co: El Paso CO 80913-

Landholding Agency: Army

Property Number: 21200130085

Status: Unutilized

Comment: 9000 sq. ft., poor condition, possible asbestos/lead paint, most recent use—maint., off-site use only

Bldg. T-218

Fort Carson

Ft. Carson Co: El Paso CO 80913-

Landholding Agency: Army

Property Number: 21200130086

Status: Unutilized

Comment: 9000 sq. ft., poor condition, possible asbestos/lead paint, most recent use—maint., off-site use only

Bldg. T-220

Fort Carson

Ft. Carson Co: El Paso CO 80913-

Landholding Agency: Army

Property Number: 21200130087

Status: Unutilized

Comment: 690 sq. ft., poor condition, possible asbestos/lead paint, most recent use—heat plant, off-site use only

Bldg. T-6001

Fort Carson

Ft. Carson Co: El Paso CO 80913-

Landholding Agency: Army

Property Number: 21200130088

Status: Unutilized

Comment: 4372 sq. ft., poor condition, possible asbestos/lead paint, most recent use—vet clinic, off-site use only

Bldg. S6263

Fort Carson

Ft. Carson Co: El Paso CO 80913-

Landholding Agency: Army

Property Number: 21200310051

Status: Unutilized

Comment: 24,902 sq. ft., needs repair, presence of asbestos/lead paint, most recent use—offices, off-site use only

Bldg. S6268

Fort Carson

Ft. Carson Co: El Paso CO 80913-

Landholding Agency: Army

Property Number: 21200340085

Status: Unutilized

Comment: 840 sq. ft., presence of asbestos/lead paint, most recent use—storage, off-site use only

Bldgs. 25, 26, 27

Pueblo Chemical Depot

Pueblo CO 81006-

Landholding Agency: Army

Property Number: 21200420178

Status: Unutilized

Comment: 1311 sq. ft., presence of asbestos/lead paint, most recent use—housing, off-site use only

Bldg. 00127

Pueblo Chemical Depot

Pueblo CO 81006-

Landholding Agency: Army

Property Number: 21200420179

Status: Unutilized

Comment: 8067 sq. ft., presence of asbestos, most recent use—barracks, off-site use only

Georgia

Bldg. 4963, Fort Benning

Ft. Benning Co: Muscogee GA 31905-

Landholding Agency: Army

Property Number: 21199220710

Status: Unutilized

Comment: 6077 sq. ft., 1 story, most recent use—storehouse, need repairs, off-site removal only.

Bldg. 2396, Fort Benning

Ft. Benning Co: Muscogee GA 31905-

Landholding Agency: Army

Property Number: 21199220712

Status: Unutilized

Comment: 9786 sq. ft., 1 story, most recent use—dining facility, needs major rehab, off-site removal only

Bldg. 4967, Fort Benning

Ft. Benning Co: Muscogee GA 31905-

Landholding Agency: Army

Property Number: 21199220728

Status: Unutilized

Comment: 6077 sq. ft., 1 story, most recent use—storage, need repairs, off-site removal only.

Bldg. 4944, Fort Benning

Ft. Benning Co: Muscogee GA 31905-

Landholding Agency: Army

Property Number: 21199220747

Status: Unutilized

Comment: 6400 sq. ft., 1 story, most recent use—vehicle maintenance shop, need repairs, off-site removal only.

Bldg. 4964, Fort Benning

Ft. Benning Co: Muscogee GA 31905-

Landholding Agency: Army

Property Number: 21199220763

Status: Unutilized

Comment: 2000 sq. ft., 1 story, most recent use—headquarters bldg., need repairs, off-site removal only.

Bldg. 4945, Fort Benning

Ft. Benning Co: Muscogee GA 31905-

Landholding Agency: Army

Property Number: 21199220779

Status: Unutilized

Comment: 220 sq. ft., 1 story, most recent use—gas station, needs major rehab, off-site removal only.

Bldg. 4023, Fort Benning

Ft. Benning Co: Muscogee GA 31905-

Landholding Agency: Army

Property Number: 21199310461

Status: Unutilized

Comment: 2269 sq. ft., 1-story, needs rehab, most recent use—maintenance shop, off-site use only

Bldg. 4024, Fort Benning

Ft. Benning Co: Muscogee GA 31905-

Landholding Agency: Army

Property Number: 21199310462

Status: Unutilized

Comment: 3281 sq. ft., 1-story, needs rehab, most recent use—maintenance shop, off-site use only

Bldg 4051, Fort Benning

Ft. Benning Co: Muscogee GA 31905-

Landholding Agency: Army

Property Number: 21199520175

Status: Unutilized

Comment: 967 sq. ft., 1-story, needs rehab, most recent use—storage, off-site use only

Bldg. 322

Fort Benning

Ft. Benning Co: Muscogee GA 31905-

Landholding Agency: Army

Property Number: 21199720156

Status: Unutilized

Comment: 9600 sq. ft., needs rehab, most recent use—admin., off-site use only

Bldg. 2593

Fort Benning

Ft. Benning Co: Muscogee GA 31905-

Landholding Agency: Army

Property Number: 21199720167

Status: Unutilized

Comment: 13644 sq. ft., needs rehab, most recent use—parachute shop, off-site use only

Bldg. 2595

Fort Benning

Ft. Benning Co: Muscogee GA 31905-

Landholding Agency: Army

Property Number: 21199720168

Status: Unutilized

Comment: 3356 sq. ft., needs rehab, most recent use—chapel, off-site use only

Bldg. 4476

Fort Benning

Ft. Benning Co: Muscogee GA 31905-

Landholding Agency: Army

Property Number: 21199720184

Status: Unutilized

Comment: 3148 sq. ft., needs rehab, most recent use—vehicle maint. shop, off-site use only

Bldg. 92

Fort Benning

Co: Muscogee GA 31905-

Landholding Agency: Army

Property Number: 21199830278

Status: Unutilized

Comment: 637 sq. ft., needs rehab, most recent use—admin., off-site use only

Bldg. 4232

Fort Benning

Co: Muscogee GA 31905-

Landholding Agency: Army

Property Number: 21199830291

Status: Unutilized

Comment: 3720 sq. ft., needs rehab, most recent use—maint. bay, off-site use only

Bldg. 2288

Fort Benning

Ft. Benning Co: Muscogee GA 31905-

Landholding Agency: Army

Property Number: 21199930123

Status: Unutilized

Comment: 2481 sq. ft., most recent use—admin., off-site use only

Bldg. 2293

Fort Benning

Ft. Benning Co: Muscogee GA 31905-

Landholding Agency: Army

Property Number: 21199930125

Status: Unutilized

Comment: 2600 sq. ft., most recent use—hdqts. bldg., off-site use only

Bldg. 2297

Fort Benning

Ft. Benning Co: Muscogee GA 31905-

Landholding Agency: Army

Property Number: 21199930126

Status: Unutilized

Comment: 5156 sq. ft., most recent use—admin.

Bldg. 2508

Fort Benning

Ft. Benning Co: Muscogee GA 31905-

Landholding Agency: Army

Property Number: 21199930128

Status: Unutilized

Comment: 2434 sq. ft., most recent use—storage, off-site use only

Bldg. 2815

Fort Benning

Ft. Benning Co: Muscogee GA 31905-

Landholding Agency: Army

Property Number: 21199930129

Status: Unutilized

Comment: 2578 sq. ft., most recent use—hdqts. bldg., off-site use only

Bldg. 3815

Fort Benning

Ft. Benning Co: Muscogee GA 31905-

Landholding Agency: Army

Property Number: 21199930130

Status: Unutilized

Comment: 7575 sq. ft., most recent use—storage, off-site use only

Bldg. 3816

Fort Benning

Ft. Benning Co: Muscogee GA 31905-

Landholding Agency: Army

Property Number: 21199930131

Status: Unutilized

Comment: 7514 sq. ft., most recent use—storage, off-site use only

Bldgs. 5974-5978

Fort Benning

Ft. Benning Co: Muscogee GA 31905-

Landholding Agency: Army

Property Number: 21199930135

Status: Unutilized

Comment: 400 sq. ft., most recent use—storage, off-site use only

Bldg. 5993

Fort Benning

Ft. Benning Co: Muscogee GA 31905-

Landholding Agency: Army

Property Number: 21199930136

Status: Unutilized

Comment: 960 sq. ft., most recent use—storage, off-site use only

Bldg. 5994

Fort Benning

Ft. Benning Co: Muscogee GA 31905-

Landholding Agency: Army

Property Number: 21199930137

Status: Unutilized

Comment: 2016 sq. ft., most recent use—storage, off-site use only

Bldg. T-1003

Fort Stewart

Hinesville Co: Liberty GA 31514-

Landholding Agency: Army

Property Number: 21200030085

Status: Excess

Comment: 9267 sq. ft., poor condition, most recent use—admin., off-site use only

Bldgs. T-1005, T-1006, T-1007

Fort Stewart

Hinesville Co: Liberty GA 31514-

Landholding Agency: Army

Property Number: 21200030086

Status: Excess

Comment: 9267 sq. ft., poor condition, most recent use—storage, off-site use only

Bldgs. T-1015, T-1016, T-1017

Fort Stewart

Hinesville Co: Liberty GA 31514-

Landholding Agency: Army

Property Number: 21200030087

Status: Excess

Comment: 7496 sq ft., poor condition, most recent use—storage, off-site use only

Bldgs. T-1018, T-1019

Fort Stewart

Hinesville Co: Liberty GA 31514-

Landholding Agency: Army

Property Number: 21200030088

Status: Excess

Comment: 9267 sq. ft., poor condition, most recent use—storage, off-site use only

Bldgs. T-1020, T-1021

Fort Stewart

Hinesville Co: Liberty GA 31514-

Landholding Agency: Army

Property Number: 21200030089

Status: Excess

Comment: 9267 sq. ft., poor condition, most recent use—storage, off-site use only

Bldg. T-1022

Fort Stewart

Hinesville Co: Liberty GA 31514-

Landholding Agency: Army

Property Number: 21200030090

Status: Excess

Comment: 9267 sq. ft., poor condition, most recent use—supply center, off-site use only

Bldg. T-1027

Fort Stewart

Hinesville Co: Liberty GA 31514-

Landholding Agency: Army

Property Number: 21200030091

Status: Excess

Comment: 9024 sq ft., poor condition, most recent use—storage, off-site use only

Bldg. T-1028

Fort Stewart

Hinesville Co: Liberty GA 31514-

Landholding Agency: Army

Property Number: 21200030092

Status: Excess

Comment: 7496 sq. ft., poor condition, most recent use—storage, off-site use only

Bldgs. T-1035, T-1036, T-1037

Fort Stewart

Hinesville Co: Liberty GA 31514-

Landholding Agency: Army

Property Number: 21200030093

Status: Excess

Comment: 1626 sq ft., poor condition, most recent use—storage, off-site use only

Bldgs. T-1038, T-1039

Fort Stewart

Hinesville Co: Liberty GA 31514-

Landholding Agency: Army

Property Number: 21200030094

Status: Excess

Comment: 1626 sq. ft., poor condition, most recent use—storage, off-site use only

Bldgs. T-1040, T-1042

Fort Stewart

Hinesville Co: Liberty GA 31514-

Landholding Agency: Army

Property Number: 21200030095

Status: Excess

Comment: 1626 sq. ft., poor condition, most recent use—storage, off-site use only

Bldgs. T-1086, T-1087, T-1088

Fort Stewart

Hinesville Co: Liberty GA 31514-

Landholding Agency: Army

Property Number: 21200030096

Status: Excess

Comment: 7680 sq. ft., poor condition, most recent use—storage, off-site use only

Bldg. T0130

Fort Stewart

Hinesville Co: Liberty GA 31314-5136

Landholding Agency: Army

Property Number: 21200230041

Status: Excess

Comment: 10,813 sq. ft., off-site use only

Bldg. T0157

Fort Stewart

Hinesville Co: Liberty GA 31314-5136

Landholding Agency: Army

Property Number: 21200230042

Status: Excess

Comment: 1440 sq. ft., off-site use only

Bldg. T0251

Fort Stewart

Hinesville Co: Liberty GA 31314-5136

Landholding Agency: Army

Property Number: 21200230043

Status: Excess

Comment: 27,254 sq. ft., off-site use only

Bldgs. T291, T292

Fort Stewart

Hinesville Co: Liberty GA 31314-5136

Landholding Agency: Army

Property Number: 21200230044

Status: Excess

Comment: 5220 sq. ft. each, off-site use only

Bldg. T0295

Fort Stewart

Hinesville Co: Liberty GA 31314-5136

Landholding Agency: Army

Property Number: 21200230045

Status: Excess

Comment: 5220 sq. ft., off-site use only

Bldg. T0470

Fort Stewart

Hinesville Co: Liberty GA 31314-5136

Landholding Agency: Army

Property Number: 21200230046

Status: Excess

Comment: 27,254 sq. ft., off-site use only

Bldg. T1191

Fort Stewart

Hinesville Co: Liberty GA 31314-5136

Landholding Agency: Army

Property Number: 21200230047

Status: Excess

Comment: 9386 sq. ft., off-site use only

Bldg. T1192

Fort Stewart

Hinesville Co: Liberty GA 31314-5136

Landholding Agency: Army

Property Number: 21200230048

Status: Excess

Comment: 3992 sq. ft., off-site use only

Bldgs. 00064, 00065

Camp Frank D. Merrill

Dahlonega Co: Lumpkin GA 30597-

Landholding Agency: Army

Property Number: 21200330108

Status: Unutilized

Comment: 648 sq. ft. each, concrete block, most recent use—water support treatment bldg., off-site use only

Bldg. 00232

Hunter Army Airfield

Garrison Co: Chatham GA 31409-

Landholding Agency: Army

Property Number: 21200420007

Status: Excess

Comment: 2436 sq. ft., most recent use—headquarters bldg., off-site use only

Bldg. P1450

Hunter Army Airfield

Garrison Co: Chatham GA 31409-

Landholding Agency: Army

Property Number: 21200420027

Status: Excess

Comment: 100,230 sq. ft., most recent use—health clinic, off-site use only

Bldg. 4151

Fort Benning

Ft. Benning Co: Chattachoochee GA 31905-

Landholding Agency: Army

Property Number: 21200420032

Status: Excess

Comment: 3169 sq. ft., most recent use—battle lab, off-site use only

Bldg. 4152

Fort Benning

Ft. Benning Co: Chattachoochee GA 31905-

Landholding Agency: Army

Property Number: 21200420033

Status: Excess

Comment: 721 sq. ft., most recent use—battle lab, off-site use only

Bldg. 4476

Fort Benning

Ft. Benning Co: Chattachoochee GA 31905-

Landholding Agency: Army

Property Number: 21200420034

Status: Excess

Comment: 3148 sq. ft., most recent use—veh. maint. shop, off-site use only

Bldg. 8771

Fort Benning

Ft. Benning Co: Chattachoochee GA 31905-

Landholding Agency: Army

Property Number: 21200420044

Status: Excess

Comment: 972 sq. ft., most recent use—RH/TGT house, off-site use only

Bldg. 9029

Fort Benning

Ft. Benning Co: Chattachoochee GA 31905-

Landholding Agency: Army

Property Number: 21200420050

Status: Excess

Comment: 7356 sq. ft., most recent use—heat plant bldg., off-site use only

Bldg. 11370

Fort Benning

Ft. Benning Co: Chattachoochee GA 31905-

Landholding Agency: Army

Property Number: 21200420051

Status: Excess

Comment: 9602 sq. ft., most recent use—nco/enl bldg., off-site use only

Bldg. T924

Fort Stewart

Ft. Stewart Co: Liberty GA 31314-

Landholding Agency: Army

Property Number: 21200420194

Status: Excess

Comment: 9360 sq. ft., most recent use—warehouse, off-site use only

Bldg. 01133

Hunter Army Airfield

Chatham Co: GA 31409-

Landholding Agency: Army

Property Number: 21200510062

Status: Excess

Comment: 1024 sq. ft., most recent use—storage, off-site use only

Bldg. 00924

Fort Stewart

Ft. Stewart Co: Liberty GA 31314-

Landholding Agency: Army

Property Number: 21200510065

Status: Excess

Comment: 9360 sq. ft., most recent use—warehouse, off-site use only

Bldg. 07780

Fort Stewart

Ft. Stewart Co: Liberty GA 31314-

Landholding Agency: Army

Property Number: 21200510070

Status: Excess

Comment: 1344 sq. ft., most recent use—air field ops., off-site use only

Bldg. 05955

Fort Benning

Chattachoochee Co: GA 31905-

Landholder Agency: Army

Property Number: 21200520097

Status: Unutilized

Comment: 95 sq. ft., poor condition, most recent use—dispatch, off-site use only

Bldg. 9012

Fort Benning

Chattachoochee Co: GA 31905-

Landholding Agency: Army

Property Number: 21200520098

Status: Unutilized

Comment: 40,442 sq. ft., poor condition, most recent use—enlisted housing, off-site use only

Bldg. 9016

Fort Benning

Chattachoochee Co: GA 31905-

Landholding Agency: Army

Property Number: 21200520101

Status: Unutilized

Comment: 6138 sq. ft., poor condition, most recent use—BN HQ Bldg., off-site use only

Bldg. 9019

Fort Benning

Chattachoochee Co: GA 31905-

Landholding Agency: Army

Property Number: 21200520102

Status: Unutilized

Comment: 7243 sq. ft., poor condition, most recent use—BN HQ Bldg., off-site use only

Bldgs. 9027, 9036, 9044

Fort Benning

Chattachoochee Co: GA 31905-

Landholding Agency: Army

Property Number: 21200520103

Status: Unutilized

Comment: various sq. ft., poor condition, most recent use—CO HQ Bldg., off-site use only

Bldg. 9100

Fort Benning

Chattachoochee Co: GA 31905-

Landholding Agency: Army

Property Number: 21200520107

Status: Unutilized

Comment: 4875 sq. ft., poor condition, most recent use—BDE HQ Bldg., off-site use only

Bldgs. 9198, 9199

Fort Benning

Chattachoochee Co: GA 31905-

Landholding Agency: Army

Property Number: 21200520108

Status: Unutilized

Comment: 1008 sq. ft., poor condition, most recent use—admin., off-site use only

Bldg. 10642

Fort Benning

Chattachoochee Co: GA 31905-

Landholding Agency: Army

Property Number: 21200520111

Status: Unutilized

Comment: 176 sq. ft., poor condition, most recent use—storage shed, off-site use only

Hawaii

P-88

Aliamanu Military Reservation

Honolulu Co: Honolulu HI 96818-

Location: Approximately 600 feet from Main Gate on Aliamanu Drive.

Landholding Agency: Army

Property Number: 21199030324

Status: Unutilized

Comment: 45,216 sq. ft. underground tunnel complex, pres. of asbestos clean-up required of contamination, use of respirator required by those entering property, use limitations

Illinois

Bldg. 54

Rock Island Arsenal

Rock Island Co: Rock Island IL 61299-

Landholding Agency: Army

Property Number: 21199620666

Status: Unutilized

Comment: 2000 sq. ft., most recent use—oil storage, needs repair, off-site use only

Bldg. AR112

Sheridan Reserve

Arlington Heights IL 60052-2475

Landholding Agency: Army

Property Number: 21200110081

Status: Unutilized

Comment: 1000 sq. ft., off-site use only

Iowa

Bldg. 00691

Iowa Army Ammo Plant

Middletown Co: Des Moines IA 52638-

Landholding Agency: Army

Property Number: 21200510073

Status: Unutilized

Comment: 2581 sq. ft. residence, presence of lead paint, possible asbestos

Bldg. 00691

Iowa Army Ammo Plant

Middletown Co: Des Moines IA 52638-

Landholding Agency: Army

Property Number: 21200520113

Status: Unutilized

Comment: 2581 sq. ft., presence of asbestos/lead paint, most recent use—residential

Louisiana

Bldg. 8423, Fort Polk

Ft. Polk Co: Vernon Parish LA 71459-

Landholding Agency: Army

Property Number: 21199640528

Status: Underutilized

Comment: 4172 sq. ft., most recent use—barracks

Maryland

Bldg. 0459B

Aberdeen Proving Ground

Aberdeen Co: Harford MD 21005-5001

Landholding Agency: Army

Property Number: 21200120106

Status: Unutilized

Comment: 225 sq. ft., poor condition, most recent use—equipment bldg., off-site use only

Bldg. 00785

Aberdeen Proving Ground

Aberdeen Co: Harford MD 21005-5001

Landholding Agency: Army

Property Number: 21200120107

Status: Unutilized

Comment: 160 sq. ft., poor condition, most recent use—shelter, off-site use only

Bldg. E3728

Aberdeen Proving Ground

Aberdeen Co: Harford MD 21005-5001

Landholding Agency: Army

Property Number: 21200120109

Status: Unutilized

Comment: 2596 sq. ft., presence of asbestos/lead paint, most recent use—testing facility, off-site use only

Bldg. E5239

Aberdeen Proving Ground

Aberdeen Co: Harford MD 21005-5001

Landholding Agency: Army

Property Number: 21200120113

Status: Unutilized

Comment: 230 sq. ft., most recent use—storage, off-site use only

Bldg. E5317

Aberdeen Proving Ground

Aberdeen Co: Harford MD 21005-5001

Landholding Agency: Army

Property Number: 21200120114

Status: Unutilized

Comment: 3158 sq. ft., presence of asbestos/lead paint, most recent use—lab, off-site use only

Bldg. E5637

Aberdeen Proving Ground

Aberdeen Co: Harford MD 21005-5001

Landholding Agency: Army

Property Number: 21200120115

Status: Unutilized

Comment: 312 sq. ft., presence of asbestos/lead paint, most recent use—lab, off-site use only

Bldg. 219

Ft. George G. Meade

Ft. Meade Co: Anne Arundel MD 20755-

Landholding Agency: Army

Property Number: 21200140078

Status: Unutilized

Comment: 8142 sq. ft., presence of asbestos/lead paint, most recent use—admin., off-site use only

Bldg. 294

Ft. George G. Meade

Ft. Meade Co: Anne Arundel MD 20755-

Landholding Agency: Army

Property Number: 21200140081

Status: Unutilized

Comment: 3148 sq. ft., presence of asbestos/lead paint, most recent use—entomology facility, off-site use only

Bldg. 949

Ft. George G. Meade

Ft. Meade Co: Anne Arundel MD 20755-

Landholding Agency: Army

Property Number: 21200140083

Status: Unutilized

Comment: 2441 sq. ft., presence of asbestos/lead paint, most recent use—storehouse, off-site use only

Bldg. 979

Ft. George G. Meade

Ft. Meade Co: Anne Arundel MD 20755-

Landholding Agency: Army

Property Number: 21200140084

Status: Unutilized

Comment: 2331 sq. ft., presence of asbestos/lead paint, most recent use—admin., off-site use only

Bldg. 1007

Ft. George G. Meade

Ft. Meade Co: Anne Arundel MD 20755-

Landholding Agency: Army

Property Number: 21200140085

Status: Unutilized

Comment: 3108 sq. ft., presence of asbestos/lead paint, most recent use—storage, off-site use only

Bldg. 02207

Fort Meade

Ft. Meade Co: Anne Arundel MD 20755-

Landholding Agency: Army

Property Number: 21200220112

Status: Unutilized

Comment: 6855 sq. ft., possible asbestos/lead paint, most recent use—storage, off-site use only

Bldg. 2214

Fort George G. Meade

Fort Meade Co: Anne Arundel MD 20755-

Landholding Agency: Army

Property Number: 21200230054

Status: Unutilized

Comment: 7740 sq. ft., needs rehab, possible asbestos/lead paint, most recent use—storage, off-site use only

Bldg. 00375

Aberdeen Proving Grounds

Aberdeen Co: Harford MD 21005-

Landholding Agency: Army

Property Number: 21200320107

Status: Unutilized

Comment: 64 sq. ft., most recent use—storage, off-site use only

Bldg. 0385A

Aberdeen Proving Grounds

Aberdeen Co: Harford MD 21005-

Landholding Agency: Army

Property Number: 21200320110

Status: Unutilized

Comment: 944 sq. ft., off-site use only

Bldg. 00523

Aberdeen Proving Grounds

Aberdeen Co: Harford MD 21005-

Landholding Agency: Army

Property Number: 21200320113

Status: Unutilized

Comment: 3897 sq. ft., most recent use—paint shop, off-site use only

Bldg. 00649

Aberdeen Proving Grounds

Aberdeen Co: Harford MD 21005-

Landholding Agency: Army

Property Number: 21200320116

Status: Unutilized

Comment: 1079 sq. ft., most recent use—storage, off-site use only

Bldg. 00657

Aberdeen Proving Grounds

Aberdeen Co: Harford MD 21005-

Landholding Agency: Army

Property Number: 21200320119

Status: Unutilized

Comment: 1048 sq. ft., most recent use—bunker, off-site use only

Bldg. 0700B

Aberdeen Proving Grounds

Aberdeen Co: Harford MD 21005-

Landholding Agency: Army

Property Number: 21200320121

Status: Unutilized

Comment: 505 sq. ft., off-site use only

Bldg. 01113

Aberdeen Proving Grounds

Aberdeen Co: Harford MD 21005-

Landholding Agency: Army

Property Number: 21200320128

Status: Unutilized

Comment: 1012 sq. ft., off-site use only

Bldgs. 01124, 01132

Aberdeen Proving Grounds

Aberdeen Co: Harford MD 21005-

Landholding Agency: Army

Property Number: 21200320129

Status: Unutilized

Comment: 740/2448 sq. ft., most recent use—lab, off-site use only

Bldgs. 02373, 02378

Aberdeen Proving Grounds

Aberdeen Co: Harford MD 21005-

Landholding Agency: Army

Property Number: 21200320130

Status: Unutilized

Comment: 8359 sq. ft., most recent use—training, off-site use only

Bldg. 03558

Aberdeen Proving Grounds

Aberdeen Co: Harford MD 21005-

Landholding Agency: Army

Property Number: 21200320133

Status: Unutilized

Comment: 18,000 sq. ft., most recent use—storage, off-site use only

Bldg. 05262

Aberdeen Proving Grounds

Aberdeen Co: Harford MD 21005-

Landholding Agency: Army

Property Number: 21200320136

Status: Unutilized

Comment: 864 sq. ft., most recent use—storage, off-site use only

Bldg. 05608

Aberdeen Proving Grounds

Aberdeen Co: Harford MD 21005-

Landholding Agency: Army

Property Number: 21200320137

Status: Unutilized

Comment: 1100 sq. ft., most recent use—maint bldg., off-site use only

Bldg. E5108

Aberdeen Proving Grounds

Aberdeen Co: Harford MD 21005-

Landholding Agency: Army

Property Number: 21200320147

Status: Unutilized

Comment: 5155 sq. ft., most recent use—recreation center, off-site use only

Bldg. E5483

Aberdeen Proving Grounds

Aberdeen Co: Harford MD 21005-

Landholding Agency: Army

Property Number: 21200320148

Status: Unutilized

Comment: 2140 sq. ft., most recent use—vehicle storage, off-site use only

Bldg. E5645

Aberdeen Proving Grounds

Aberdeen Co: Harford MD 21005-

Landholding Agency: Army

Property Number: 21200320150

Status: Unutilized

Comment: 548 sq. ft., most recent use—storage, off-site use only

Bldg. 00435

Aberdeen Proving Grounds

Aberdeen Co: Harford MD 21005-

Landholding Agency: Army

Property Number: 21200330111

Status: Unutilized

Comment: 1191 sq. ft., needs rehab, most recent use—storage, off-site use only

Bldg. 0449A

Aberdeen Proving Grounds

Aberdeen Co: Harford MD 21005-

Landholding Agency: Army

Property Number: 21200330112

Status: Unutilized

Comment: 143 sq. ft., needs rehab, most recent use—substation switch bldg., off-site use only

Bldg. 0460

Aberdeen Proving Grounds

Aberdeen Co: Harford MD 21005-

Landholding Agency: Army

Property Number: 21200330114

Status: Unutilized

Comment: 1800 sq. ft., needs rehab, most recent use—electrical EQ bldg., off-site use only

Bldg. 00914

Aberdeen Proving Grounds

Aberdeen Co: Harford MD 21005-

Landholding Agency: Army

Property Number: 21200330118

Status: Unutilized

Comment: needs rehab, most recent use—safety shelter, off-site use only

Bldg. 00915

Aberdeen Proving Grounds

Aberdeen Co: Harford MD 21005-

Landholding Agency: Army

Property Number: 21200330119

Status: Unutilized

Comment: 247 sq. ft., needs rehab, most recent use—storage, off-site use only

Bldg. 01189

Aberdeen Proving Grounds

Aberdeen Co: Harford MD 21005-

Landholding Agency: Army

Property Number: 21200330126

Status: Unutilized

Comment: 800 sq. ft., needs rehab, most recent use—range bldg., off-site use only

Bldg. E1413

Aberdeen Proving Grounds

Aberdeen Co: Harford MD 21005-

Landholding Agency: Army

Property Number: 21200330127

Status: Unutilized

Comment: needs rehab, most recent use—observation tower, off-site use only

Bldg. E2350A

Aberdeen Proving Grounds

Aberdeen Co: Harford MD 21005-

Landholding Agency: Army

Property Number: 21200330132

Status: Unutilized

Comment: 325 sq. ft., need rehab, most recent use—oil storage, off-site use only

Bldg. 2456

Aberdeen Proving Grounds

Aberdeen Co: Harford MD 21005-

Landholding Agency: Army

Property Number: 21200330133

Status: Unutilized

Comment: 4720 sq. ft., needs rehab, presence of asbestos/lead paint, most recent use—admin., off-site use only

Bldg. E3175

Aberdeen Proving Grounds

Aberdeen Co: Harford MD 21005-

Landholding Agency: Army

Property Number: 21200330134

Status: Unutilized

Comment: 1296 sq. ft., needs rehab, most recent use—hazard bldg., off-site use only

4 Bldgs.

Aberdeen Proving Grounds

Aberdeen Co: Harford MD 21005-

Location: E3224, E3228, E3230, E3232, E3234

Landholding Agency: Army

Property Number: 21200330135

Status: Unutilized

Comment: sq. ft. varies, needs rehab, most recent use—lab test bldgs., off-site use only

Bldg. E3241

Aberdeen Proving Grounds

Aberdeen Co: Harford MD 21005-

Landholding Agency: Army

Property Number: 21200330136

Status: Unutilized

Comment: 592 sq. ft., needs rehab, most recent use—medical res bldg., off-site use only

Bldgs. E3269, E3270

Aberdeen Proving Grounds

Aberdeen Co: Harford MD 21005-

Landholding Agency: Army

Property Number: 21200330138

Status: Unutilized

Comment: 200/1200 sq. ft., needs rehab, most recent use—flam. storage, off-site use only

Bldg. E3300

Aberdeen Proving Grounds

Aberdeen Co: Harford MD 21005-

Landholding Agency: Army

Property Number: 21200330139

Status: Unutilized

Comment: 44,352 sq. ft., needs rehab, most recent use—chemistry lab, off-site use only

Bldg. E3335

Aberdeen Proving Grounds

Aberdeen Co: Harford MD 21005-

Landholding Agency: Army

Property Number: 21200330144

Status: Unutilized

Comment: 400 sq. ft., needs rehab, most recent use—storage, off-site use only

Bldgs. E3360, E3362, E3464

Aberdeen Proving Grounds

Aberdeen Co: Harford MD 21005-

Landholding Agency: Army

Property Number: 21200330145

Status: Unutilized

Comment: 3588/236 sq. ft., needs rehab, most recent use—storage, off-site use only

Bldg. E3542

Aberdeen Proving Grounds

Aberdeen Co: Harford MD 21005-

Landholding Agency: Army

Property Number: 21200330148

Status: Unutilized

Comment: 1146 sq. ft., needs rehab, most recent use—lab test bldg., off-site use only

Bldgs. 03554, 03556

Aberdeen Proving Grounds

Aberdeen Co: Harford MD 21005-

Landholding Agency: Army

Property Number: 21200330149

Status: Unutilized

Comment: 18,000/9,000 sq. ft., needs rehab, most recent use—storage, off-site use only

Bldg. E4420

Aberdeen Proving Grounds

Aberdeen Co: Harford MD 21005-

Landholding Agency: Army

Property Number: 21200330151

Status: Unutilized

Comment: 14,997 sq. ft., needs rehab, most recent use—police bldg., off-site use only

Bldg. E4733

Aberdeen Proving Grounds

Aberdeen Co: Harford MD 21005-

Landholding Agency: Army

Property Number: 21200330152

Status: Unutilized

Comment: 2252 sq. ft., needs rehab, most recent use—flammable storage, off-site use only

Bldg. E4734

Aberdeen Proving Grounds

Aberdeen Co: Harford MD 21005-

Landholding Agency: Army

Property Number: 21200330153

Status: Unutilized

Comment: 1114 sq. ft., needs rehab, most recent use—private club, off-site use only

4 Bldgs.

Aberdeen Proving Grounds

Aberdeen Co: Harford MD 21005-

Location: E5005, E5049, E5050, E5051

Landholding Agency: Army

Property Number: 21200330154

Status: Unutilized

Comment: sq. ft. varies, needs rehab, most recent use—storage, off-site use only

Bldg. E5068

Aberdeen Proving Grounds

Aberdeen Co: Harford MD 21005-

Landholding Agency: Army

Property Number: 21200330155

Status: Unutilized

Comment: 1200 sq. ft., needs rehab, most recent use—fire station, off-site use only

Bldg. 05447

Aberdeen Proving Grounds

Aberdeen Co: Harford MD 21005-

Landholding Agency: Army

Property Number: 21200330160

Status: Unutilized

Comment: 2464 sq. ft., needs rehab, most recent use—storage, off-site use only

Bldgs. 05448, 05449

Aberdeen Proving Grounds

Aberdeen Co: Harford MD 21005-

Landholding Agency: Army

Property Number: 21200330161

Status: Unutilized

Comment: 6431 sq. ft., needs rehab, most recent use—enlisted UHP, off-site use only

Bldg. 05450

Aberdeen Proving Grounds

Aberdeen Co: Harford MD 21005-

Landholding Agency: Army

Property Number: 21200330162

Status: Unutilized

Comment: 2730 sq. ft., needs rehab, most recent use—admin., off-site use only

Bldgs. 05451, 05455

Aberdeen Proving Grounds

Aberdeen Co: Harford MD 21005-

Landholding Agency: Army

Property Number: 21200330163

Status: Unutilized

Comment: 2730/6431 sq. ft., needs rehab, most recent use—storage, off-site use only

Bldg. 05453

Aberdeen Proving Grounds

Aberdeen Co: Harford MD 21005-

Landholding Agency: Army

Property Number: 21200330164

Status: Unutilized

Comment: 6431 sq. ft., needs rehab, most recent use—admin., off-site use only

Bldgs. 05456, 05459, 05460

Aberdeen Proving Grounds

Aberdeen Co: Harford MD 21005-

Landholding Agency: Army

Property Number: 21200330165

Status: Unutilized

Comment: 6431 sq. ft., needs rehab, most recent use—enlisted bldg., off-site use only

Bldg. E5609

Aberdeen Proving Grounds

Aberdeen Co: Harford MD 21005-

Landholding Agency: Army

Property Number: 21200330167

Status: Unutilized

Comment: 2053 sq. ft., needs rehab, most recent use—storage, off-site use only

Bldg. E5611

Aberdeen Proving Grounds

Aberdeen Co: Harford MD 21005-

Landholding Agency: Army

Property Number: 21200330168

Status: Unutilized

Comment: 11,242 sq. ft., needs rehab, most recent use—hazard bldg., off-site use only

Bldg. E5634

Aberdeen Proving Grounds

Aberdeen Co: Harford MD 21005-

Landholding Agency: Army

Property Number: 21200330169

Status: Unutilized

Comment: 200 sq. ft., needs rehab, most recent use—flammable storage, off-site use only

Bldg. E5654

Aberdeen Proving Grounds

Aberdeen Co: Harford MD 21005-

Landholding Agency: Army

Property Number: 21200330171

Status: Unutilized

Comment: 21,532 sq. ft., needs rehab, most recent use—storage, off-site use only

Bldg. E5854

Aberdeen Proving Grounds

Aberdeen Co: Harford MD 21005-

Landholding Agency: Army

Property Number: 21200330174

Status: Unutilized

Comment: 5166 sq. ft., needs rehab, most recent use—eng/MTN bldg., off-site use only

Bldg. E5942

Aberdeen Proving Grounds

Aberdeen Co: Harford MD 21005-

Landholding Agency: Army

Property Number: 21200330176

Status: Unutilized

Comment: 2147 sq. ft., needs rehab, most recent use—igloo storage, off-site use only

Bldgs. E5952, E5953

Aberdeen Proving Grounds

Aberdeen Co: Harford MD 21005-

Landholding Agency: Army

Property Number: 21200330177

Status: Unutilized

Comment: 100/24 sq. ft., needs rehab, most recent use—compressed air bldg., off-site use only

Bldgs. E7401, E7402

Aberdeen Proving Grounds

Aberdeen Co: Harford MD 21005-

Landholding Agency: Army

Property Number: 21200330178

Status: Unutilized

Comment: 256/440 sq. ft., needs rehab, most recent use—storage, off-site use only

Bldg. E7407, E7408

Aberdeen Proving Grounds

Aberdeen Co: Harford MD 21005-

Landholding Agency: Army

Property Number: 21200330179

Status: Unutilized

Comment: 1078/762 sq. ft., needs rehab, most recent use—decon facility, off-site use only

Bldg. E7931

Aberdeen Proving Grounds

Aberdeen Co: Harford MD 21005-

Landholding Agency: Army

Property Number: 21200330182

Status: Unutilized

Comment: needs rehab, most recent use—sewer treatment, off-site use only

Bldg. 1145D

Aberdeen Proving Ground

Harford MD 21005-

Landholding Agency: Army

Property Number: 21200420054

Status: Unutilized

Comment: 898 sq. ft., most recent use—storage, off-site use only

Bldg. 3070A

Aberdeen Proving Ground

Harford MD 21005-

Landholding Agency: Army

Property Number: 21200420055

Status: Unutilized

Comment: 2299 sq. ft., most recent use—heat plant, off-site use only

Bldg. E5026

Aberdeen Proving Ground

Harford MD 21005-

Landholding Agency: Army

Property Number: 21200420056

Status: Unutilized

Comment: 20,536 sq. ft., most recent use—storage, off-site use only

Bldg. 05261

Aberdeen Proving Ground

Harford MD 21005-

Landholding Agency: Army

Property Number: 21200420057

Status: Unutilized

Comment: 10067 sq. ft., most recent use—maintenance, off-site use only

Bldgs. 00733, 00734

Aberdeen Proving Grounds

Aberdeen Co: Harford MD 21005-

Landholding Agency: Army

Property Number: 21200430063

Status: Unutilized

Comment: 136 sq. ft. each, most recent use—ammo storage, off-site use only

Bldg. 0401A

Aberdeen Proving Grounds

Aberdeen Co: Harford MD 21005-

Landholding Agency: Army

Property Number: 21200440068

Status: Unutilized

Comment: 220 sq. ft., needs rehab, most recent use—storage, off-site use only

Bldg. 0748A

Aberdeen Proving Grounds

Aberdeen Co: Harford MD 21005-

Landholding Agency: Army

Property Number: 21200440069

Status: Unutilized

Comment: 112 sq. ft., needs rehab, most recent use—shelter, off-site use only

Bldg. 01198

Aberdeen Proving Grounds

Aberdeen Co: Harford MD 21005-

Landholding Agency: Army

Property Number: 21200440070

Status: Unutilized

Comment: 168 sq. ft., needs rehab, most recent use—ordnance, off-site use only

Bldg. 03557

Aberdeen Proving Grounds

Aberdeen Co: Harford MD 21005-

Landholding Agency: Army

Property Number: 21200440071

Status: Unutilized

Comment: 340 sq. ft., needs rehab, most recent use—storage, off-site use only

Bldg. E3732

Aberdeen Proving Grounds

Aberdeen Co: Harford MD 21005-

Landholding Agency: Army

Property Number: 21200440072

Status: Unutilized

Comment: 1080 sq. ft., needs rehab, most recent use—storage, off-site use only

Bldg. E5876

Aberdeen Proving Grounds

Aberdeen Co: Harford MD 21005-

Landholding Agency: Army

Property Number: 21200440073

Status: Unutilized

Comment: 1192 sq. ft., needs rehab, most recent use—storage, off-site use only

Missouri

Bldg. T1497

Fort Leonard Wood

Ft. Leonard Wood Co: Pulaski MO 65473-5000

Landholding Agency: Army

Property Number: 21199420441

Status: Underutilized

Comment: 4720 sq. ft., 2-story, presence of lead base paint, most recent use—admin/gen. purpose, off-site use only

Bldg. T2139

Fort Leonard Wood

Ft. Leonard Wood Co: Pulaski MO 65473-5000

Landholding Agency: Army

Property Number: 21199420446

Status: Underutilized

Comment: 3663 sq. ft., 1-story, presence of lead base paint, most recent use—admin/gen. purpose, off-site use only

Bldg. T2385

Fort Leonard Wood

Ft. Leonard Wood Co: Pulaski MO 65473-

Landholding Agency: Army

Property Number: 21199510115

Status: Excess

Comment: 3158 sq. ft., 1-story, wood frame, most recent use—admin., to be vacated 8/95, off-site use only

Bldg. 2167

Fort Leonard Wood

Ft. Leonard Wood Co: Pulaski MO 65473-5000

Landholding Agency: Army

Property Number: 21199820179

Status: Unutilized

Comment: 1296 sq. ft., presence of asbestos/lead paint, most recent use—admin., off-site use only

Bldgs. 2192, 2196, 2198

Fort Leonard Wood

Ft. Leonard Wood Co: Pulaski MO 65473-5000

Landholding Agency: Army

Property Number: 21199820183

Status: Unutilized

Comment: 4720 sq. ft., presence of asbestos/lead paint, most recent use—barracks, off-site use only

12 Bldgs

Fort Leonard Wood

Ft. Leonard Wood Co: Pulaski MO 65743-8944

Location: 07036, 07050, 07054, 07102, 07400, 07401, 08245, 08249, 08251, 08255, 08257, 08261.

Landholding Agency: Army

Property Number: 21200410110

Status: Unutilized

Comment: 7152 sq. ft. 6 plex housing quarters, potential contaminants, off-site use only

6 Bldg.

Fort Leonard Wood

Ft. Leonard Wood Co: Pulaski MO 65743-8944

Location: 07044, 07106, 07107, 08260, 08281, 08300

Landholding Agency: Army

Property Number: 21200410111

Status: Unutilized

Comment: 9520 sq ft., 8 plex housing quarters, potential contaminants, off-site use only

15 Bldgs.

Fort Leaonard Wood

Ft. Leonard Wood Co: Pulaski MO 65743-8944

Location: 08242, 08243, 08246-08248, 08250, 08252-08254, 08256, 08258-08259, 08262-08263, 08265

Landholding Agency: Army

Property Number: 21200410112

Status: Unutilized

Comment: 4784 sq ft., 4 plex housing quarters, potential contaminants, off-site use only

Bldgs. 08283, 08285

Fort Leonard Wood

Ft. Leonard Wood Co: Pulaski MO 65743-8944

Landholding Agency: Army

Property Number: 21200410113

Status: Unutilized

Comment: 2240 sq ft, 2 plex housing quarters, potential contaminants, off-site use only

15 Bldgs.

Fort Leonard Wood

Ft. Leonard Wood Co: Pulaski MO 65743-0827

Location: 08267, 08269, 08271, 08273, 08275, 08277, 08279, 08290-08296, 08301

Landholding Agency: Army

Property Number: 21200410114

Status: Unutilized

Comment: 4784 sq ft., 4 plex housing quarters, potential contaminants, off-site use only

Bldg. 09432

Fort Leonard Wood

Ft. Leonard Wood Co: Pulaski MO 65743-8944

Landholding Agency: Army

Property Number: 21200410115

Status: Unutilized

Comment: 8724 sq ft., 6-plex housing quarters, potential contaminants, off-site use only

Bldgs. 5006 and 5013

Fort Leonard Wood

Ft. Leonard Wood Co: Pulaski MO 65743-8944

Landholding Agency: Army

Property Number: 21200430064

Status: Unutilized

Comment: 192 & 144 sq. ft., needs repair, most recent use—generator bldg., off-site use only

Bldgs. 13210, 13710

Fort Leonard Wood

Ft. Leonard Wood Co: Pulaski MO 65743-8944

Landholding Agency: Army

Property Number: 21200430065

Status: Unutilized

Comment: 144 sq. ft. each, needs repair, most recent use—communication, off-site use only

Montana

Bldg. 00405

Fort Harrison

Ft. Harrison Co: Lewis/Clark MT 59636-

Landholding Agency: Army

Property Number: 21200130099

Status: Unutilized

Comment: 3467 sq. ft., most recent use—storage, security limitations

Bldg. T0066

Fort Harrison

Ft. Harrison Co: Lewis/Clark MT 59636-

Landholding Agency: Army

Property Number: 21200130100

Status: Unutilized

Comment: 528 sq. ft., needs rehab, presence of asbestos, security limitations

New Jersey

Bldg. 732

Armament R&D Engineering Center

Picatinny Arsenal Co: Morris NJ 07806-5000

Landholding Agency: Army

Property Number: 21199740315

Status: Unutilized

Comment: 9077 sq. ft., needs rehab, most recent use—storage, off-site use only

Bldg. 816C

Armament R, D, & Eng. Center

Picatinny Arsenal Co: Morris NJ 07806-5000

Landholding Agency: Army

Property Number: 21200130103

Status: Unutilized

Comment: 144 sq. ft., most recent use—storage, off-site use only

New Mexico

Bldg. 34198

White Sands Missile Range

Dona Ana NM 88002-

Landholding Agency: Army

Property Number: 21200230062

Status: Excess

Comment: 107 sq. ft., most recent use—security, off-site use only

New York

5 Bldgs.

Orangeburg USARC #206, 207, 208, 218, 223

Orangeburg Co: Rockland NY 10962-2209

Landholding Agency: Army

Property Number: 21200310061

Status: Unutilized

Comment: various sq. ft., need major repairs, presence of lead paint, most recent use—admin/storage, off-site use only

Bldg. 1227

U.S. Military Academy

Highlands Co: Orange NY 10996-1592

Landholding Agency: Army

Property Number: 21200440074

Status: Unutilized

Comment: 3800 sq. ft., needs repair, possible asbestos/lead paint, most recent use—maintenance, off-site use only

Bldg. 2218

Stewart Newburg USARC

New Windsor Co: Orange NY 12553-9000

Landholding Agency: Army

Property Number: 21200510067

Status: Unutilized

Comment: 32,000 sq. ft., poor condition, requires major repairs, most recent use—storage/services

7 Bldgs.

Stewart Newburg USARC

New Windsor Co: Orange NY 12553-9000

Location: 2122, 2124, 2126, 2128, 2106, 2108, 2104

Landholding Agency: Army

Property Number: 21200510068

Status: Unutilized

Comment: sq. ft. varies, poor condition, needs major repairs, most recent use—storage/services

Tappan USARC

335 Western Hwy

Tappan Co: Rockland NY 10983-

Landholding Agency: Army

Property Number: 21200510069

Status: Excess

Comment: 33,537 sq. ft., army reserve center

North Carolina

Bldg. C5536

Fort Bragg

Ft. Bragg Co: Cumberland NC 28310-5000

Landholding Agency: Army

Property Number: 21200130150

Status: Unutilized

Comment: 600 sq. ft., single wide trailer w/metal storage shed, needs major repair, presence of asbestos/lead paint, off-site use only

Oklahoma

Bldg. T-838, Fort Sill 838 Macomb Road

Lawton Co: Comanche OK 73503-5100

Landholding Agency: Army

Property Number: 21199220609

Status: Unutilized

Comment: 151 sq. ft., wood frame, 1 story, off-site removal only, most recent use—vet facility (quarantine stable)

Bldg. T-954, Fort Sill

954 Quinette Road

Lawton Co: Comanche OK 73503-5100

Landholding Agency: Army

Property Number: 21199240659

Status: Unutilized

Comment: 3571 sq. ft., 1 story wood frame, needs rehab, off-site use only, most recent use—motor repair shop

Bldg. T-3325, Fort Sill

3325 Naylor Road

Lawton Co: Comanche OK 73503-5100

Landholding Agency: Army

Property Number: 21199240681

Status: Unutilized

Comment: 8832 sq. ft., 1 story wood frame, needs rehab, off-site use only, most recent use—warehouse

Bldg. T-4226

Fort Sill

Lawton Co: Comanche OK 73503-

Landholding Agency: Army

Property Number: 21199440384

Status: Unutilized

Comment: 114 sq. ft., 1-story wood frame, possible asbestos and lead paint, most recent use—storage, off-site use only

Bldg. P-1015, Fort Sill

Lawton Co: Comanche OK 73501-5100

Landholding Agency: Army

Property Number: 21199520197

Status: Unutilized

Comment: 15402 sq. ft., 1-story, most recent use—storage, off-site use only

Bldg. P-366, Fort Sill

Lawton Co: Comanche OK 73503-

Landholding Agency: Army

Property Number: 21199610740

Status: Unutilized

Comment: 482 sq. ft., possible asbestos, most recent use—storage, off-site use only

Building T-2952 Fort Sill

Lawton Co: Comanche OK 73503-5100

Landholding Agency: Army

Property Number: 21199710047

Status: Unutilized

Comment: 4327 sq. ft., possible asbestos and leadpaint, most recent use—motor repair shop, off-site use only

Building P-5042 Fort Sill

Lawton Co: Comanche OK 73503-5100

Landholding Agency: Army

Property Number: 21199710066

Status: Unutilized

Comment: 119 sq. ft., possible asbestos and leadpaint, most recent use—heatplant, off-site use only

4 Buildings Fort Sill

Lawton Co: Comanche OK 73503-5100

Location: T-6465, T-6466, T-6467, T-6468

Landholding Agency: Army

Property Number: 21199710086

Status: Unutilized

Comment: various sq. ft., possible asbestos and leadpaint, most recent use—range support, off site use only

Bldg. T-810 Fort Sill

Lawton Co: Comanche OK 73503-5100

Landholding Agency: Army

Property Number: 21199730350

Status: Unutilized

Comment: 7205 sq. ft., possible asbestos/lead paint, most recent use—hay storage, off-site use only

Bldgs. T-837, T-839 Fort Sill

Lawton Co: Comanche OK 73503-5100

Landholding Agency: Army

Property Number: 21199730351

Status: Unutilized

Comment: approx. 100 sq. ft. each, possible asbestos/lead paint, most recent use—storage, off-site use only

Bldg. P-934 Fort Sill

Lawton Co: Comanche OK 73503-5100

Landholding Agency: Army

Property Number: 21199730353

Status: Unutilized

Comment: 402 sq. ft., possible asbestos/lead paint, most recent use—storage, off-site use only

Bldgs. T-1468, T-1469 Fort Sill

Lawton Co: Comanche OK 73503-5100

Landholding Agency: Army

Property Number: 21199730357

Status: Unutilized

Comment: 114 sq. ft., possible asbestos/lead paint, most recent use—storage, off-site use only

Bldg. T-1470 Fort Sill

Lawton Co: Comanche OK 73503-5100

Landholding Agency: Army

Property Number: 21199730358

Status: Unutilized

Comment: 3120 sq. ft., possible asbestos/lead paint, most recent use—storage, off-site use only

Bldgs. T-1954, T-2022 Fort Sill

Lawton Co: Comanche OK 73503-5100

Landholding Agency: Army

Property Number: 21199730362

Status: Unutilized

Comment: approx. 100 sq. ft. each, possible asbestos/lead paint, most recent use—storage, off-site use only

Bldg. T-2184 Fort Sill

Lawton Co: Comanche OK 73503-5100

Landholding Agency: Army

Property Number: 21199730364

Status: Unutilized

Comment: 454 sq. ft., possible asbestos/lead paint, most recent use—storage, off-site use only

Bldgs. T-2186, T-2188, T-2189 Fort Sill

Lawton Co: Comanche OK 73503-5100

Landholding Agency: Army

Property Number: 21199730366

Status: Unutilized

Comment: 1656-3583 sq. ft., possible asbestos/lead paint, most recent use—vehicle maint. shop, off-site use only

Bldg. T-2187 Fort Sill

Lawton Co: Comanche OK 73503-5100

Landholding Agency: Army

Property Number: 21199730367

Status: Unutilized

Comment: 1673 sq. ft., possible asbestos/lead paint, most recent use—storage, off-site use only

Bldgs. T-2291 thru T-2296 Fort Sill

Lawton Co: Comanche OK 73503-5100

Landholding Agency: Army

Property Number: 21199730372

Status: Unutilized

Comment: 400 sq. ft. each, possible asbestos/lead paint, most recent use—storage, off-site use only

Bldgs. T-3001, T-3006 Fort Sill

Lawton Co: Comanche OK 73503-5100

Landholding Agency: Army

Property Number: 21199730383

Status: Unutilized

Comment: approx. 9300 sq. ft., possible asbestos/lead paint, most recent use—storage, off-site use only

Bldg. T-3314 Fort Sill

Lawton Co: Comanche OK 73503-5100

Landholding Agency: Army

Property Number: 21199730385

Status: Unutilized

Comment: 229 sq. ft., possible asbestos/lead paint, most recent use—office, off-site use only

Bldg. T-5041

Fort Sill

Lawton Co: Comanche OK 73503-5100

Landholding Agency: Army

Property Number: 21199730409

Status: Unutilized

Comment: 763 sq. ft., possible asbestos/lead paint, most recent use—storage, off-site use only

Bldg. T-5420

Fort Sill

Lawton Co: Comanche OK 73503-5100

Landholding Agency: Army

Property Number: 21199730414

Status: Unutilized

Comment: 189 sq. ft., possible asbestos/lead paint, most recent use—fuel storage, off-site use only

Bldg. T-7775

Fort Sill

Lawton Co: Comanche OK 73503-5100

Landholding Agency: Army

Property Number: 21199730419

Status: Unutilized

Comment: 1452 sq. ft., possible asbestos/lead paint, most recent use—private club, off-site use only

4 Bldgs.

Fort Sill

P-617, P-1114, P-1386, P-1608

Lawton Co: Comanche OK 73503-5100

Landholding Agency: Army

Property Number: 21199910133

Status: Unutilized

Comment: 106 sq. ft., possible asbestos/lead paint, most recent use—utility plant, off-site use only

Bldg. P-746

Fort Sill

Lawton Co: Comanche OK 73503-5100

Landholding Agency: Army

Property Number: 21199910135

Status: Unutilized

Comment: 6299 sq. ft., possible asbestos/lead paint, most recent use—admin., off-site use only

Bldgs. P-2581, P-2773

Fort Sill

Lawton Co: Comanche OK 73503-5100

Landholding Agency: Army

Property Number: 21199910140

Status: Unutilized

Comment: 4093 and 4129 sq. ft., possible asbestos/lead paint, most recent use—office, off-site use only

Bldg. P-2582

Fort Sill

Lawton Co: Comanche OK 73503-5100

Landholding Agency: Army

Property Number: 21199910141

Status: Unutilized

Comment: 3672 sq. ft., possible asbestos/lead paint, most recent use—admin., off-site use only

Bldgs. P-2912, P-2921, P-2944

Fort Sill

Lawton Co: Comanche OK 73503-5100

Landholding Agency: Army

Property Number: 21199910144

Status: Unutilized

Comment: 1390 sq. ft., possible asbestos/lead paint, most recent use—office, off-site use only

Bldg. P-2914

Fort Sill

Lawton Co: Comanche OK 73503-5100

Landholding Agency: Army

Property Number: 21199910146

Status: Unutilized

Comment: 1236 sq. ft., possible asbestos/lead paint, most recent use—storage, off-site use only

Bldg. P-5101

Fort Sill

Lawton Co: Comanche OK 73503-5100

Landholding Agency: Army

Property Number: 21199910153

Status: Unutilized

Comment: 82 sq. ft., possible asbestos/lead paint, most recent use—gas station, off-site use only

Bldg. S-6430

Fort Sill

Lawton Co: Comanche OK 73503-5100

Landholding Agency: Army

Property Number: 21199910156

Status: Unutilized

Comment: 2080 sq. ft., possible asbestos/lead paint, most recent use—range support, off-site use only

Bldg. T-6461

Fort Sill

Lawton Co: Comanche OK 73503-5100

Landholding Agency: Army

Property Number: 21199910157

Status: Unutilized

Comment: 200 sq. ft., possible asbestos/lead paint, most recent use—range support, off-site use only

Bldg. T-6462

Fort Sill

Lawton Co: Comanche OK 73503-5100

Landholding Agency: Army

Property Number: 21199910158

Status: Unutilized

Comment: 64 sq. ft., possible asbestos/lead paint, most recent use—control tower, off-site use only

Bldg. P-7230

Fort Sill

Lawton Co: Comanche OK 73503-5100

Landholding Agency: Army

Property Number: 21199910159

Status: Unutilized

Comment: 160 sq. ft., possible asbestos/lead paint, most recent use—transmitter bldg., off-site use only

Bldg. S-4023

Fort Sill

Lawton Co: Comanche OK 73503-5100

Landholding Agency: Army

Property Number: 21200010128

Status: Unutilized

Comment: 1200 sq. ft., possible asbestos/lead paint, most recent use—storage, off-site use only

Bldg. P-747

Fort Sill

Lawton Co: Comanche OK 73503-5100

Landholding Agency: Army

Property Number: 21200120120

Status: Unutilized

Comment: 9232 sq. ft., possible asbestos/lead paint, most recent use—lab, off-site use only

Bldg. P-842

Fort Sill

Lawton Co: Comanche OK 73503-5100

Landholding Agency: Army

Property Number: 21200120123

Status: Unutilized

Comment: 192 sq. ft., possible asbestos/lead paint, most recent use—storage, off-site use only

Bldg. T-911

Fort Sill

Lawton Co: Comanche OK 73503-5100

Landholding Agency: Army

Property Number: 21200120124

Status: Unutilized

Comment: 3080 sq. ft., possible asbestos/lead paint, most recent use—office, off-site use only

Bldg. P-1672

Fort Sill

Lawton Co: Comanche OK 73503-5100

Landholding Agency: Army

Property Number: 21200120126

Status: Unutilized

Comment: 1056 sq. ft., possible asbestos/lead paint, most recent use—storage, off-site use only

Bldg. S-2362

Fort Sill

Lawton Co: Comanche OK 73503-5100

Landholding Agency: Army

Property Number: 21200120127

Status: Unutilized

Comment: 64 sq. ft., possible asbestos/lead paint, most recent use—gatehouse, off-site use only

Bldg. P-2589

Fort Sill

Lawton Co: Comanche OK 73503-5100

Landholding Agency: Army

Property Number: 21200120129

Status: Unutilized

Comment:

3672 sq. ft., possible asbestos/lead paint, most recent use—storage, off-site use only

Bldgs. 01276, 01278

Fort Sill

Lawton Co: Comanche OK 73501-5100

Landholding Agency: Army

Property Number: 21200520119

Status: Unutilized

Comment: 1533 & 2700 sq. ft., most recent use—maintenance, off-site use only

Pennsylvania

5 Bldgs.

Carlisle Barracks

00441 thru 00445

Carlisle Co: Cumberland PA 17013-

Landholding Agency: Army

Property Number: 21200430066

Status: Unutilized

Comment: 4238 sq. ft. each, presence of asbestos, most recent use—residential, off-site use only

South Carolina

Bldg. 3499

Fort Jackson

Ft. Jackson Co: Richland SC 29207-

Landholding Agency: Army

Property Number: 21199730310

Status: Unutilized

Comment: 3724 sq. ft., needs repair, most recent use—admin

Bldg. 2441

Fort Jackson

Ft. Jackson Co: Richland SC 29207-

Landholding Agency: Army

Property Number: 21199820187

Status: Unutilized

Comment: 2160 sq. ft., needs repair, most recent use—admin

Bldg. 3605

Fort Jackson

Ft. Jackson Co: Richland SC 29207-

Landholding Agency: Army

Property Number: 21199820188

Status: Unutilized

Comment: 711 sq. ft., needs repair, most recent use—storage

Bldg. 1765

Fort Jackson

Ft. Jackson Co: Richland SC 29207-

Landholding Agency: Army

Property Number: 21200030109

Status: Unutilized

Comment: 1700 sq. ft., need repairs, presence of asbestos/lead paint, most recent use—training bldg., off-site use only

Texas

Bldg. 7137, Fort Bliss

El Paso Co: El Paso TX 79916-

Landholding Agency: Army

Property Number: 21199640564

Status: Unutilized

Comment: 35,736 sq. ft., 3-story, most recent use—housing, off-site use only

Bldg. 92043

Fort Hood

Ft. Hood Co: Bell TX 76544-

Landholding Agency: Army

Property Number: 21200020206

Status: Unutilized

Comment: 450 sq. ft., most recent use—storage, off-site use only

Bldg. 92044

Fort Hood

Ft. Hood Co: Bell TX 76544-

Landholding Agency: Army

Property Number: 21200020207

Status: Unutilized

Comment: 1920 sq. ft., most recent use—admin., off-site use only

Bldg. 92045

Fort Hood

Ft. Hood Co: Bell TX 76544-

Landholding Agency: Army

Property Number: 21200020208

Status: Unutilized

Comment: 2108 sq. ft., most recent use—maint., off-site use only

Bldg. 120

Fort Hood

Ft. Hood Co: Bell TX 76544-

Landholding Agency: Army

Property Number: 21200220137

Status: Unutilized

Comment: 1450 sq. ft., most recent use—dental clinic, off-site use only

Bldg. 56305

Fort Hood

Ft. Hood Co: Bell TX 76544-

Landholding Agency: Army

Property Number: 21200220143

Status: Unutilized

Comment: 2160 sq. ft., most recent use—admin., off-site use only

Bldg. 56402

Fort Hood

Ft. Hood Co: Bell TX 76544-

Landholding Agency: Army

Property Number: 21200220144

Status: Unutilized

Comment: 2680 sq. ft., most recent use—recreation center, off-site use only

Bldgs. 56403, 56405

Fort Hood

Ft. Hood Co: Bell TX 76544-

Landholding Agency: Army

Property Number: 21200220145

Status: Unutilized

Comment: 480 sq. ft., most recent use—shower, off-site use only

Bldgs. 56620, 56621

Fort Hood

Ft. Hood Co: Bell TX 76544-

Landholding Agency: Army

Property Number: 21200220146

Status: Unutilized

Comment: 1120 sq. ft., most recent use—shower, off-site use only

Bldgs. 56626, 56627

Fort Hood

Ft. Hood Co: Bell TX 76544-

Landholding Agency: Army

Property Number: 21200220147

Status: Unutilized

Comment: 1120 sq. ft., most recent use—shower, off-site use only

Bldg. 56628

Fort Hood

Ft. Hood Co: Bell TX 76544-

Landholding Agency: Army

Property Number: 21200220148

Status: Unutilized

Comment: 1133 sq. ft., most recent use—shower, off-site use only

Bldgs. 56630, 56631

Fort Hood

Ft. Hood Co: Bell TX 76544-

Landholding Agency: Army

Property Number: 21200220149

Status: Unutilized

Comment: 1120 sq. ft., most recent use—shower, off-site use only

Bldgs. 56636, 56637

Fort Hood

Ft. Hood Co: Bell TX 76544-

Landholding Agency: Army

Property Number: 21200220150

Status: Unutilized

Comment: 1120 sq. ft., most recent use—shower, off-site use only

Bldg. 56638

Fort Hood

Ft. Hood Co: Bell TX 76544-

Landholding Agency: Army

Property Number: 21200220151

Status: Unutilized

Comment: 1133 sq. ft., most recent use—shower, off-site use only

Bldgs. 56703, 56708

Fort Hood

Ft. Hood Co: Bell TX 76544-

Landholding Agency: Army

Property Number: 21200220152

Status: Unutilized

Comment: 1306 sq. ft., most recent use—shower, off-site use only

Bldg. 56758

Fort Hood

Ft. Hood Co: Bell TX 76544-

Landholding Agency: Army

Property Number: 21200220154

Status: Unutilized

Comment: 1133 sq. ft., most recent use—shower, off-site use only

Bldgs. P6220, P6222

Fort Sam Houston

Camp Bullis

San Antonio Co: Bexar TX-

Landholding Agency: Army

Property Number: 21200330197

Status: Unutilized

Comment: 384 sq. ft., most recent use—carport/storage, off-site use only

Bldgs. P6224, P6226

Fort Sam Houston

Camp Bullis

San Antonio Co: Bexar TX-

Landholding Agency: Army

Property Number: 21200330198

Status: Unutilized

Comment: 384 sq. ft., most recent use—carport/storage, off-site use only

Bldg. 04200

Fort Hood

Ft. Hood Co: Bell TX 76544-

Landholding Agency: Army

Property Number: 21200420065

Status: Unutilized

Comment: 2100 sq. ft., presence of asbestos, most recent use—admin., off-site use only

Virginia

Bldgs. 1516, 1517, 1552, 1567

Fort Eustis

Ft. Eustis VA 23604-

Landholding Agency: Army

Property Number: 21200130154

Status: Unutilized

Comment: 2892 & 4720 sq. ft., most recent use—dining/barracks/admin, off-site use only

Bldg. 1559

Fort Eustis

Ft. Eustis VA 23604-

Landholding Agency: Army

Property Number: 21200130156

Status: Unutilized

Comment: 2892 sq. ft., most recent use—storage, off-site use only

Bldg. T-707

Fort Eustis

Ft. Eustis VA 23604-

Landholding Agency: Army

Property Number: 21200330199

Status: Unutilized

Comment: 3763 sq. ft., most recent use—chapel, off-site use only

Washington

Bldg. CO909, Fort Lewis

Ft. Lewis Co: Pierce WA 98433-9500

Landholding Agency: Army

Property Number: 21199630205

Status: Unutilized

Comment: 1984 sq. ft., possible asbestos/lead paint, most recent use—admin., off-site use only

Bldg. 1164, Fort Lewis

Ft. Lewis Co: Pierce WA 98433-9500

Landholding Agency: Army

Property Number: 21199630213

Status: Unutilized

Comment: 230 sq. ft., possible asbestos/lead paint, most recent use—storehouse, off-site use only

Bldg. 1307, Fort Lewis

Ft. Lewis Co: Pierce WA 98433-9500

Landholding Agency: Army

Property Number: 21199630216

Status: Unutilized

Comment: 1092 sq. ft., possible asbestos/lead paint, most recent use—storage, off-site use only

Bldg. 1309, Fort Lewis

Ft. Lewis Co: Pierce WA 98433-9500

Landholding Agency: Army

Property Number: 21199630217

Status: Unutilized

Comment: 1092 sq. ft., possible asbestos/lead paint, most recent use—storage, off-site use only

Bldg. 2167, Fort Lewis

Ft. Lewis Co: Pierce WA 98433-9500

Landholding Agency: Army

Property Number: 21199630218

Status: Unutilized

Comment: 288 sq. ft., possible asbestos/lead paint, most recent use—warehouse, off-site use only

Bldg. 4078, Fort Lewis

Ft. Lewis Co: Pierce WA 98433-9500

Landholding Agency: Army

Property Number: 21199630219

Status: Unutilized

Comment: 10200 sq. ft., needs rehab, possible asbestos/lead paint, most recent use—warehouse, off-site use only

Bldg. 9599, Fort Lewis

Ft. Lewis Co: Pierce WA 98433-9500

Landholding Agency: Army

Property Number: 21199630220

Status: Unutilized

Comment: 12366 sq. ft., possible asbestos/lead paint, most recent use—warehouse, off-site use only

Bldg. A1404, Fort Lewis

Ft. Lewis Co: Pierce WA 98433-

Landholding Agency: Army

Property Number: 21199640570

Status: Unutilized

Comment: 557 sq. ft., needs rehab, most recent use—storage, off-site use only

Bldg. EO347

Fort Lewis

Ft. Lewis Co: Pierce WA 98433-

Landholding Agency: Army

Property Number: 21199710156

Status: Unutilized

Comment: 1800 sq. ft., possible asbestos/lead paint, most recent use—office, off-site use only

Bldg. B1008, Fort Lewis

Ft. Lewis Co: Pierce WA 98433-

Landholding Agency: Army

Property Number: 21199720216

Status: Unutilized

Comment: 7387 sq. ft., 2-story, needs rehab, possible asbestos/lead paint, most recent use—medical clinic, off-site use only

Bldgs. CO509, CO709, CO720

Fort Lewis

Ft. Lewis Co: Pierce WA 98433-

Landholding Agency: Army

Property Number: 21199810372

Status: Unutilized

Comment: 1984 sq. ft., possible asbestos/lead paint, needs rehab, most recent use—storage, off-site use only

Bldg. 5162

Fort Lewis

Ft. Lewis Co: Pierce WA 98433-

Landholding Agency: Army

Property Number: 21199830419

Status: Unutilized

Comment: 2360 sq. ft., needs repair, presence of asbestos/lead paint, most recent use—office, off-site use only

Bldg. 5224

Fort Lewis

Ft. Lewis Co: Pierce WA 98433-

Landholding Agency: Army

Property Number: 21199830433

Status: Unutilized

Comment: 2360 sq. ft., needs repair, presence of asbestos/lead paint, most recent use—educ. fac., off-site use only

Bldg. U001B

Fort Lewis

Ft. Lewis Co: Pierce WA 98433-

Landholding Agency: Army

Property Number: 21199920237

Status: Excess

Comment: 54 sq. ft., needs repair, presence of asbestos/lead paint, most recent use—control tower, off-site use only

Bldg. U001C

Fort Lewis

Ft. Lewis Co: Pierce WA 98433-

Landholding Agency: Army

Property Number: 21199920238

Status: Unutilized

Comment: 960 sq. ft., needs repair, presence of asbestos/lead paint, most recent use—supply, off-site use only

10 Bldgs.

Fort Lewis

Ft. Lewis Co: Pierce WA 98433-

Location: U002B, U002C, U005C, U015I, U016E, U019C, U022A, U028B, 0091A, U093C

Landholding Agency: Army

Property Number: 21199920239

Status: Excess

Comment: 600 sq. ft., needs repair, presence of asbestos/lead paint, most recent use—range house, off-site use only

6 Bldgs.

Fort Lewis

Ft. Lewis Co: Pierce WA 98433-

Location: U003A, U004B, U006C, U015B, U016B, U019B

Landholding Agency: Army

Property Number: 21199920240

Status: Unutilized

Comment: 54 sq. ft., needs repair, presence of asbestos/lead paint, most recent use—control tower, off-site use only

Bldg. U004D

Fort Lewis

Ft. Lewis Co: Pierce WA 98433-

Landholding Agency: Army

Property Number: 21199920241

Status: Unutilized

Comment: 960 sq. ft., needs repair, presence of asbestos/lead paint, most recent use—supply, off-site use only

Bldg. U005A

Fort Lewis

Ft. Lewis Co: Pierce WA 98433-

Landholding Agency: Army

Property Number: 21199920242

Status: Unutilized

Comment: 360 sq. ft., needs repair, presence of asbestos/lead paint, most recent use—control tower, off-site use only

7 Bldgs.

Fort Lewis

Ft. Lewis Co: Pierce WA 98433-

Location: U014A, U022B, U023A, U043B, U059B, U060A, U101A

Landholding Agency: Army

Property Number: 21199920245

Status: Excess

Comment: Needs repair, presence of asbestos/lead paint, most recent use—ofc/tower/support, off-site use only

Bldg. U015J

Fort Lewis

Ft. Lewis Co: Pierce WA 98433-

Landholding Agency: Army

Property Number: 21199920246

Status: Excess

Comment: 144 sq. ft., needs repair, presence of asbestos/lead paint, most recent use—tower, off-site use only

Bldg. U018B

Fort Lewis

Ft. Lewis Co: Pierce WA 98433-

Landholding Agency: Army

Property Number: 21199920247

Status: Unutilized

Comment: 121 sq. ft., needs repair, presence of asbestos/lead paint, most recent use—range house, off-site use only

Bldg. U018C

Fort Lewis

Ft. Lewis Co: Pierce WA 98433-

Landholding Agency: Army

Property Number: 21199920248

Status: Unutilized

Comment: 48 sq. ft., needs repair, presence of asbestos/lead paint, off-site use only

Bldg. U024D

Fort Lewis

Ft. Lewis Co: Pierce WA 98433-

Landholding Agency: Army

Property Number: 21199920250

Status: Unutilized

Comment: 120 sq. ft., needs repair, presence of asbestos/lead paint, most recent use—ammo bldg., off-site use only

Bldg. U027A

Fort Lewis

Ft. Lewis Co: Pierce WA-

Landholding Agency: Army

Property Number: 21199920251

Status: Excess

Comment: 64 sq. ft., needs repair, presence of asbestos/lead paint, most recent use—tire house, off-site use only

Bldg. U031A

Fort Lewis

Ft. Lewis Co: Pierce WA 98433-

Landholding Agency: Army

Property Number: 21199920253

Status: Excess

Comment: 3456 sq. ft., needs repair, presence of asbestos/lead paint, most recent use—line shed, off-site use only

Bldg. U031C

Fort Lewis

Ft. Lewis Co: Pierce WA 98433-

Landholding Agency: Army

Property Number: 21199920254

Status: Unutilized

Comment: 32 sq. ft., needs repair, presence of asbestos/lead paint, off-site use only

Bldg. U040D

Fort Lewis

Ft. Lewis Co: Pierce WA 98433-

Landholding Agency: Army

Property Number: 21199920255

Status: Excess

Comment: 800 sq. ft., needs repair, presence of asbestos/lead paint, most recent use—range house, off-site use only

Bldgs. U052C, U052H

Fort Lewis

Ft. Lewis Co: Pierce WA 98433-

Landholding Agency: Army

Property Number: 21199920256

Status: Excess

Comment: various sq. ft., needs repair, presence of asbestos/lead paint, most recent use—range house, off-site use only

Bldgs. U035A, U035B

Fort Lewis

Ft. Lewis Co: Pierce WA 98433-

Landholding Agency: Army

Property Number: 21199920257

Status: Excess

Comment: 192 sq. ft., needs repair, presence of asbestos/lead paint, most recent use—shelter, off-site use only

Bldg. U035C

Fort Lewis

Ft. Lewis Co: Pierce WA 98433-

Landholding Agency: Army

Property Number: 21199920258

Status: Excess

Comment: 242 sq. ft., needs repair, presence of asbestos/lead paint, most recent use—range house, off-site use only

Bldg. U039A

Fort Lewis

Ft. Lewis Co: Pierce WA 98433-

Landholding Agency: Army

Property Number: 21199920259

Status: Excess

Comment: 36 sq. ft., needs repair, presence of asbestos/lead paint, most recent use—control tower, off-site use only

Bldg. U039B

Fort Lewis

Ft. Lewis Co: Pierce WA 98433-

Landholding Agency: Army

Property Number: 21199920260

Status: Excess

Comment: 1600 sq. ft., needs repair, presence of asbestos/lead paint, most recent use—grandstand/bleachers, off-site use only

Bldg. U039C

Fort Lewis

Ft. Lewis Co: Pierce WA 98433-

Landholding Agency: Army

Property Number: 21199920261

Status: Excess

Comment: 600 sq. ft., needs repair, presence of asbestos/lead paint, most recent use—support, off-site use only

Bldg. U043A

Fort Lewis

Ft. Lewis Co: Pierce WA 98433-

Landholding Agency: Army

Property Number: 21199920262

Status: Excess

Comment: 132 sq. ft., needs repair, presence of asbestos/lead paint, most recent use—range house, off-site use only

Bldg. U052A

Fort Lewis

Ft. Lewis Co: Pierce WA 98433-

Landholding Agency: Army

Property Number: 21199920263

Status: Excess

Comment: 69 sq. ft., needs repair, presence of asbestos/lead paint, most recent use—tower, off-site use only

Bldg. U052E

Fort Lewis

Ft. Lewis Co: Pierce WA 98433-

Landholding Agency: Army

Property Number: 21199920264

Status: Excess

Comment: 600 sq. ft., needs repair, presence of asbestos/lead paint, most recent use—storage, off-site use only

Bldg. U052G

Fort Lewis

Ft. Lewis Co: Pierce WA 98433-

Landholding Agency: Army

Property Number: 21199920265

Status: Excess

Comment: 1600 sq. ft., needs repair, presence of asbestos/lead paint, most recent use—shelter, off-site use only

3 Bldgs.

Fort Lewis

Ft. Lewis Co: Pierce WA 98433-

Location: U058A, U103A, U018A

Landholding Agency: Army

Property Number: 21199920266

Status: Excess

Comment: 36 sq. ft., needs repair, presence of asbestos/lead paint, most recent use—control tower, off-site use only

Bldg. U059A

Fort Lewis

Ft. Lewis Co: Pierce WA 98433-

Landholding Agency: Army

Property Number: 21199920267

Status: Excess

Comment: 16 sq. ft., needs repair, presence of asbestos/lead paint, most recent use—tower, off-site use only

Bldg. U093B

Fort Lewis

Ft. Lewis Co: Pierce WA 98433-

Landholding Agency: Army

Property Number: 21199920268

Status: Excess

Comment: 680 sq. ft., needs repair, presence of asbestos/lead paint, most recent use—range house, off-site use only

4 Bldgs.

Fort Lewis

Ft. Lewis Co: Pierce WA 98433-

Location: U101B, U101C, U507B, U557A

Landholding Agency: Army

Property Number: 21199920269

Status: Excess

Comment: 400 sq. ft., needs repair, presence of asbestos/lead paint, off-site use only

Bldg. U110B

Fort Lewis

Ft. Lewis Co: Pierce WA 98433-

Landholding Agency: Army

Property Number: 21199920272

Status: Excess

Comment: 138 sq. ft., needs repair, presence of asbestos/lead paint, most recent use—support, off-site use only

6 Bldgs.

Fort Lewis

Ft. Lewis Co: Pierce WA 98433-

Location: U111A, U015A, U024E, U052F, U109A, U110A

Landholding Agency: Army

Property Number: 21199920273

Status: Excess

Comment: 1000 sq. ft., needs repair, presence of asbestos/lead paint, most recent use—support/shelter/mess, off-site use only

Bldg. U112A

Fort Lewis

Ft. Lewis Co: Pierce WA 98433-

Landholding Agency: Army

Property Number: 21199920274

Status: Excess

Comment: 1600 sq. ft., needs repair, presence of asbestos/lead paint, most recent use—shelter, off-site use only

Bldg. U115A

Fort Lewis

Ft. Lewis Co: Pierce WA 98433-

Landholding Agency: Army

Property Number: 21199920275

Status: Excess

Comment: 36 sq. ft., needs repair, presence of asbestos/lead paint, most recent use—tower, off-site use only

Bldg. U507A

Fort Lewis

Ft. Lewis Co: Pierce WA 98433-

Landholding Agency: Army

Property Number: 21199920276

Status: Excess

Comment: 400 sq. ft., needs repair, presence of asbestos/lead paint, most recent use—support, off-site use only

Bldg. C0120

Fort Lewis

Ft. Lewis Co: Pierce WA 98433-

Landholding Agency: Army

Property Number: 21199920281

Status: Excess

Comment: 384 sq. ft., needs repair, presence of asbestos/lead paint, most recent use—scale house, off-site use only

Bldg. 01205

Fort Lewis

Ft. Lewis Co: Pierce WA 98433-

Landholding Agency: Army

Property Number: 21199920290

Status: Excess

Comment: 87 sq. ft., needs repair, presence of asbestos/lead paint, most recent use—storehouse, off-site use only

Bldg. 01259

Fort Lewis

Ft. Lewis Co: Pierce WA 98433-

Landholding Agency: Army

Property Number: 21199920291

Status: Excess

Comment: 16 sq. ft., needs repair, presence of asbestos/lead paint, most recent use—storage, off-site use only

Bldg. 01266

Fort Lewis

Ft. Lewis Co: Pierce WA 98433-

Landholding Agency: Army

Property Number: 21199920292

Status: Excess

Comment: 45 sq. ft., needs repair, presence of asbestos/lead paint, most recent use—shelter, off-site use only

Bldg. 1445

Fort Lewis

Ft. Lewis Co: Pierce WA 98433-

Landholding Agency: Army

Property Number: 21199920294

Status: Excess

Comment: 144 sq. ft., needs repair, presence of asbestos/lead paint, most recent use—generator bldg., off-site use only

Bldgs. 03091, 03099

Fort Lewis

Ft. Lewis Co: Pierce WA 98433-

Landholding Agency: Army

Property Number: 21199920296

Status: Excess

Comment: various sq. ft., needs repair, presence of asbestos/lead paint, most recent use—sentry station, off-site use only

Bldg. 4040

Fort Lewis

Ft. Lewis Co: Pierce WA 98433-

Landholding Agency: Army

Property Number: 21199920298

Status: Excess

Comment: 8326 sq. ft., needs repair, presence of asbestos/lead paint, most recent use—shed, off-site use only

Bldgs. 4072, 5104

Fort Lewis

Ft. Lewis Co: Pierce WA 98433-

Landholding Agency: Army

Property Number: 21199920299

Status: Excess

Comment: 24/36 sq. ft., needs repair, presence of asbestos/lead paint, off-site use only

Bldg. 4295

Fort Lewis

Ft. Lewis Co: Pierce WA 98433-

Landholding Agency: Army

Property Number: 21199920300

Status: Excess

Comment: 48 sq. ft., needs repair, presence of asbestos/lead paint, most recent use—storage, off-site use only

Bldg. 6191

Fort Lewis

Ft. Lewis Co: Pierce WA 98433-

Landholding Agency: Army

Property Number: 21199920303

Status: Excess

Comment: 3663 sq. ft., needs repair, presence of asbestos/lead paint, most recent use—exchange branch, off-site use only

Bldgs. 08076, 08080

Fort Lewis

Ft. Lewis Co: Pierce WA 98433-

Landholding Agency: Army

Property Number: 21199920304

Status: Excess

Comment: 3660/412 sq. ft., needs repair, presence of asbestos/lead paint, off-site use only

Bldg. 08093

Fort Lewis

Ft. Lewis Co: Pierce WA 98433-

Landholding Agency: Army

Property Number: 21199920305

Status: Excess

Comment: 289 sq. ft., needs repair, presence of asbestos/lead paint, most recent use—boat storage, off-site use only

Bldg. 8279

Fort Lewis

Ft. Lewis Co: Pierce WA 98433-

Landholding Agency: Army

Property Number: 21199920306

Status: Excess

Comment: 210 sq. ft., needs repair, presence of asbestos/lead paint, most recent use—fuel disp. fac., off-site use only

Bldgs. 8280, 8291

Fort Lewis

Ft. Lewis Co: Pierce WA 98433-

Landholding Agency: Army

Property Number: 21199920307

Status: Excess

Comment: 800/464 sq. ft., needs repair, presence of asbestos/lead paint, most recent use—storage, off-site use only

Bldg. 8956

Fort Lewis

Ft. Lewis Co: Pierce WA 98433-

Landholding Agency: Army

Property Number: 21199920308

Status: Excess

Comment: 100 sq. ft., needs repair, presence of asbestos/lead paint, most recent use—storage, off-site use only

Bldg. 9530

Fort Lewis

Ft. Lewis Co: Pierce WA 98433-

Landholding Agency: Army

Property Number: 21199920309

Status: Excess

Comment: 64 sq. ft., needs repair, presence of asbestos/lead paint, most recent use—sentry station, off-site use only

Bldg. 9574

Fort Lewis

Ft. Lewis Co: Pierce WA 98433-

Landholding Agency: Army

Property Number: 21199920310

Status: Excess

Comment: 6005 sq. ft., needs repair, presence of asbestos/lead paint, most recent use—veh. shop., off-site use only

Bldg. 9596

Fort Lewis

Ft. Lewis Co: Pierce WA 98433-

Landholding Agency: Army

Property Number: 21199920311

Status: Excess

Comment: 36 sq. ft., needs repair, presence of asbestos/lead paint, most recent use—gas station, off-site use only

Wisconsin

Bldg. 01567

Fort McCoy

Monroe Co: WI 54656-

Landholding Agency: Army

Property Number: 21200520122

Status: Unutilized

Comment: 112 sq. ft. shelter, off-site use only

Land (by State)

Georgia

Land (Railbed)

Fort Benning

Ft. Benning Co: Muscogee GA 31905-

Landholding Agency: Army

Property Number: 21199440440

Status: Unutilized

Comment: 17.3 acres extending 1.24 miles, no known utilities potential

Ohio

Land

Defense Supply Center

Columbus Co: Franklin OH 43216-5000

Landholding Agency: Army

Property Number: 21200340094

Status: Excess

Comment: 11 acres, railroad access

South Carolina

One Acre

Fort Jackson

Columbia Co: Richland SC 29207-

Landholding Agency: Army

Property Number: 21200110089

Status: Underutilized

Comment: approx. 1 acre

Texas

1 acre

Fort Sam Houston

San Antonio Co: Bexar TX 78234-

Landholding Agency: Army

Property Number: 21200440075

Status: Excess

Comment: 1 acre, grassy area

Suitable/Unavailable Properties

Buildings (by State)

Alabama

Bldg. 01433

Fort Rucker

Ft. Rucker Co: Dale AL 36362-

Landholding Agency: Army

Property Number: 21200220098

Status: Excess

Comment: 800 sq. ft., most recent use—office, off-site use only

Bldg. 30105

Fort Rucker

Ft. Rucker Co: Dale AL 36362-

Landholding Agency: Army

Property Number: 21200510052

Status: Excess

Comment: 4100 sq. ft., most recent use—admin., off-site use only

Bldg. 40115

Fort Rucker

Ft. Rucker Co: Dale AL 36362-

Landholding Agency: Army

Property Number: 21200510053

Status: Excess

Comment: 34,520 sq. ft., most recent use—storage, off-site use only

Bldg. 25303

Fort Rucker

Dale Co: AL 36362-

Landholding Agency: Army

Property Number: 21200520074

Status: Excess

Comment: 800 sq. ft., most recent use—airfield operations, off-site use only

Bldg. 25304

Fort Rucker

Dale Co: AL 36362-

Landholding Agency: Army

Property Number: 21200520075

Status: Excess

Comment: 1200 sq. ft., poor condition, most recent use—fire station, off-site use only

Arizona

Bldg. 13570

Fort Huachuca

Cochise Co: AZ 85613-7010

Landholding Agency: Army

Property Number: 21200520076

Status: Excess

Comment: 4000 sq. ft., most recent use—storage, off-site use only

Bldg. 22529

Fort Huachuca

Cochise Co: AZ 85613-7010

Landholding Agency: Army

Property Number: 21200520077

Status: Excess

Comment: 2543 sq. ft., most recent use—storage, off-site use only

Bldg. 22541

Fort Huachuca

Cochise Co: AZ 85613-7010

Landholding Agency: Army

Property Number: 21200520078

Status: Excess

Comment: 1300 sq. ft., most recent use—storage, off-site use only

Bldg. 30020

Fort Huachuca

Cochise Co: AZ 85613-7010

Landholding Agency: Army

Property Number: 21200520079

Status: Excess

Comment: 1305 sq. ft., most recent use—storage, off-site use only

Bldg. 30021

Fort Huachuca

Cochise Co: AZ 85613-7010

Landholding Agency: Army

Property Number: 21200520080

Status: Excess

Comment: 144 sq. ft., most recent use—storage, off-site use only

Bldgs. 80709, 80710

Fort Huachuca

Cochise Co: AZ 85613-7010

Landholding Agency: Army

Property Number: 21200520081

Status: Excess

Comment: 1231 sq. ft., most recent use—admin., off-site use only

Bldg. 90203

Fort Huachuca

Cochise Co: AZ 85613-7010

Landholding Agency: Army

Property Number: 21200520082

Status: Excess

Comment: 165 sq. ft., most recent use—storage, off-site use only

Bldg. 90311

Fort Huachuca

Cochise Co: AZ 85613-7010

Landholding Agency: Army

Property Number: 21200520083

Status: Excess

Comment: 1357 sq. ft., most recent use—storage, off-site use only

Colorado

Bldg. S6222

Fort Carson

Ft. Carson Co: El Paso CO 80913-

Landholding Agency: Army

Property Number: 21200340082

Status: Unutilized

Comment: 19,225 sq. ft., presence of asbestos/lead paint, most recent use—office, off-site use only

Bldg. S6264

Fort Carson

Ft. Carson Co: El Paso CO 80913-

Landholding Agency: Army

Property Number: 21200340084

Status: Unutilized

Comment: 19,499 sq. ft., most recent use—office, off-site use only

Bldg. S6220

Fort Carson

Ft. Carson Co: El Paso CO 80913-

Landholding Agency: Army

Property Number: 21200420175

Status: Unutilized

Comment: 12,361 sq. ft., presence of asbestos, most recent use—admin., off-site use only

Bldg. S6285

Fort Carson

Ft. Carson Co: El Paso CO 80913-

Landholding Agency: Army

Property Number: 21200420176

Status: Unutilized

Comment: 19,478 sq. ft., most recent use—admin., off-site use only

Bldg. S6287

Fort Carson

Ft. Carson Co: El Paso CO 80913-

Landholding Agency: Army

Property Number: 21200420177

Status: Unutilized

Comment: 10,076 sq. ft., presence of asbestos, most recent use—admin., off-site use only

Bldg. 06225

Fort Carson

El Paso Co: CO 80913-4001

Landholding Agency: Army

Property Number: 21200520084

Status: Unutilized

Comment: 24,263 sq. ft., most recent use—admin., off-site use only

Bldg. 06280

Fort Carson

El Paso Co: CO 80913-4001

Landholding Agency: Army

Property Number: 21200520085

Status: Unutilized

Comment: 20597 sq. ft., most recent use—gen. inst., off-site use only

Bldgs. 06281, 06282, 06283

Fort Carson

El Pase Co: CO 80913-4001

Landholding Agency: Army

Property Number: 21200520086

Status: Unutilized

Comment: 19478 sq. ft., most recent use—gen. inst., off-site use only

Georgia

Bldg. T-920

Fort Stewart

Hinesville Co: Liberty GA 31314-

Landholding Agency: Army

Property Number: 21200240083

Status: Excess

Comment: 13,337 sq. ft., most recent use—office, off-site use only

Bldgs. 00960, 00961, 00963

Fort Benning

Ft. Benning Co: Chattahoochee GA

Landholding Agency: Army

Property Number: 21200330107

Status: Unutilized

Comment: 11,110 sq. ft., most recent use—housing, off-site use only

Bldg. T201

Hunter Army Airfield

Garrison Co: Chatham GA 31409-

Landholding Agency: Army

Property Number: 21200420002

Status: Excess

Comment: 1828 sq. ft., most recent use—credit union, off-site use only

Bldg. T202

Hunter Army Airfield

Garrison Co: Chatham GA 31409-

Landholding Agency: Army

Property Number: 21200420003

Status: Excess

Comment: 5602 sq. ft., most recent use—headquarters bldg., off-site use only

Bldg. T222

Hunter Army Airfield

Garrison Co: Chatham GA 31409-

Landholding Agency: Army

Property Number: 21200420004

Status: Excess

Comment: 2891 sq. ft., most recent use—headquarters bldg., off-site use only

Bldg. P223

Hunter Army Airfield

Garrison Co: Chatham GA 31409-

Landholding Agency: Army

Property Number: 21200420005

Status: Excess

Comment: 6434 sq. ft., most recent use—headquarters bldg., off-site use only

Bldg. P224

Hunter Army Airfield

Garrison Co: Chatham GA 31409-

Landholding Agency: Army

Property Number: 21200420006

Status: Excess

Comment: 6434 sq. ft., most recent use—enlisted bldg., off-site use only

Bldg. T234

Hunter Army Airfield

Garrison Co: Chatham GA 31409-

Landholding Agency: Army

Property Number: 21200420008

Status: Excess

Comment: 2624 sq. ft., most recent use—admin., off-site use only

Bldg. T235

Hunter Army Airfield

Garrison Co: Chatham GA 31409-

Landholding Agency: Army

Property Number: 21200420009

Status: Excess

Comment: 1842 sq. ft., most recent use—headquarters bldg., off-site use only

Bldg. T702

Hunter Army Airfield

Garrison Co: Chatham GA 31409-

Landholding Agency: Army

Property Number: 21200420010

Status: Excess

Comment: 9190 sq. ft., most recent use—storage, off-site use only

Bldg. T703

Hunter Army Airfield

Garrison Co: Chatham GA 31409-

Landholding Agency: Army

Property Number: 21200420011

Status: Excess

Comment: 9190 sq. ft., most recent use—storage, off-site use only

Bldg. T704

Hunter Army Airfield

Garrison Co: Chatham GA 31409-

Landholding Agency: Army

Property Number: 21200420012

Status: Excess

Comment: 9190 sq. ft., most recent use—storage, off-site use only

Bldg. P813

Hunter Army Airfield

Garrison Co: Chatham GA 31409-

Landholding Agency: Army

Property Number: 21200420013

Status: Excess

Comment: 43,055 sq. ft., most recent use—maint. hanger/Co Hq., off-site use only

Bldgs. S843, S844, S845

Hunter Army Airfield

Garrison Co: Chatham GA 31409-

Landholding Agency: Army

Property Number: 21200420014

Status: Excess

Comment: 9383 sq. ft., most recent use—maint hanger, off-site use only

Bldg. P925

Hunter Army Airfield

Garrison Co: Chatham GA 31409-

Landholding Agency: Army

Property Number: 21200420015

Status: Excess

Comment: 27,681 sq. ft., most recent use—fitness center, off-site use only

Bldg. S1227

Hunter Army Airfield

Garrison Co: Chatham GA 31409-

Landholding Agency: Army

Property Number: 21200420016

Status: Excess

Comment: 2750 sq. ft., most recent use—admin., off-site use only

Bldg. S1248

Hunter Army Airfield

Garrison Co: Chatham GA 31409-

Landholding Agency: Army

Property Number: 21200420017

Status: Excess

Comment: 1450 sq. ft., most recent use—police station, off-site use only

Bldg. S1251

Hunter Army Airfield

Garrison Co: Chatham GA 31409-

Landholding Agency: Army

Property Number: 21200420018

Status: Excess

Comment: 3300 sq. ft., most recent use—police station, off-site use only

Bldg. T1254

Hunter Army Airfield

Garrison Co: Chatham GA 31409-

Landholding Agency: Army

Property Number: 21200420019

Status: Excess

Comment: 4720 sq. ft., most recent use—transient UPH, off-site use only

Bldg. S1259

Hunter Army Airfield

Garrison Co: Chatham GA 31409-

Landholding Agency: Army

Property Number: 21200420020

Status: Excess

Comment: 1750 sq. ft., most recent use—admin., off-site use only

Bldg. S1260

Hunter Army Airfield

Garrison Co: Chatham GA 31409-

Landholding Agency: Army

Property Number: 21200420021

Status: Excess

Comment: 1750 sq.ft., most recent use—exchange service outlet, off-site use only

Bldg. P1275

Hunter Army Airfield

Garrison Co: Chatham GA 31409-

Landholding Agency: Army

Property Number: 21200420022

Status: Excess

Comment: 138,032 sq. ft., most recent use—dining facility, off-site use only

Bldg. P1276

Hunter Army Airfield

Garrison Co: Chatham GA 31409-

Landholding Agency: Army

Property Number: 21200420023

Status: Excess

Comment: 138,032 sq. ft., most recent use—headquarters bldg., off-site use only

Bldg. P1277

Hunter Army Airfield

Garrison Co: Chatham GA 31409-

Landholding Agency: Army

Property Number: 21200420024

Status: Excess

Comment: 13,981 sq. ft., most recent use—barracks/dining, off-site use only

Bldg. T1412

Hunter Army Airfield

Garrison Co: Chatham GA 31409-

Landholding Agency: Army

Property Number: 21200420025

Status: Excess

Comment: 9186 sq. ft., most recent use—warehouse, off-site use only

Bldg. T1413

Hunter Army Airfield

Garrison Co: Chatham GA 31409-

Landholding Agency: Army

Property Number: 21200420026

Status: Excess

Comment: 21,483 sq. ft., most recent use—fitness center/warehouse, off-site use only

Bldg. P8058

Hunter Army Airfield

Garrison Co: Chatham GA 31409-

Landholding Agency: Army

Property Number: 21200420028

Status: Excess

Comment: 1808 sq. ft., most recent use—control tower, off-site use only

Bldg. 8658

Hunter Army Airfield

Garrison Co: Chatham GA 31409-

Landholding Agency: Army

Property Number: 21200420029

Status: Excess

Comment: 8470 sq. ft., most recent use—storage, off-site use only

Bldg. 8659

Hunter Army Airfield

Garrison Co: Chatham GA 31409-

Landholding Agency: Army

Property Number: 21200420030

Status: Excess

Comment: 8470 sq. ft., most recent use—storage, off-site use only

Bldgs. 8675, 8676

Hunter Army Airfield

Garrison Co: Chatham GA 31409-

Landholding Agency: Army

Property Number: 21200420031

Status: Excess

Comment: 4000 sq. ft., most recent use—ship/recv facility, off-site use only

Bldgs. 5962-5966

Fort Benning

Ft. Benning Co: Chattachoochee GA 31905-

Landholding Agency: Army

Property Number: 21200420035

Status: Excess

Comment: 2421 sq. ft., most recent use—igloo storage, off-site use only

Bldgs. 5967-5971

Fort Benning

Ft. Benning Co: Chattachoochee GA 31905-

Landholding Agency: Army

Property Number: 21200420036

Status: Excess

Comment: 1813 sq. ft., most recent use—igloo storage, off-site use only

Bldgs. 5974-5977

Fort Benning

Ft. Benning Co: Chattachoochee GA 31905-

Landholding Agency: Army

Property Number: 21200420037

Status: Excess

Comment: 400 sq. ft., most recent use—igloo storage, off-site use only

Bldg. 5978

Fort Benning

Ft. Benning Co: Chattachoochee GA 31905-

Landholding Agency: Army

Property Number: 21200420038

Status: Excess

Comment: 1344 sq. ft., most recent use—igloo storage, off-site use only

Bldg. 5981

Fort Benning

Ft. Benning Co: Chattachoochee GA 31905-

Landholding Agency: Army

Property Number: 21200420039

Status: Excess

Comment: 2028 sq. ft., most recent use—ammo storage, off-site use only

Bldgs. 5984-5988

Fort Benning

Ft. Benning Co: Chattachoochee GA 31905-

Landholding Agency: Army

Property Number: 21200420040

Status: Excess

Comment: 1816 sq. ft., most recent use—igloo storage, off-site use only

Bldg. 5993

Fort Benning

Ft. Benning Co: Chattachoochee GA 31905-

Landholding Agency: Army

Property Number: 21200420041

Status: Excess

Comment: 960 sq. ft., most recent use—storage, off-site use only

Bldg. 5994

Fort Benning

Ft. Benning Co: Chattachoochee GA 31905-

Landholding Agency: Army

Property Number: 21200420042

Status: Excess

Comment: 2016 sq. ft., most recent use—ammo storage, off-site use only

Bldg. 5995

Fort Benning

Ft. Benning Co: Chattachoochee GA 31905-

Landholding Agency: Army

Property Number: 21200420043

Status: Excess

Comment: 114 sq. ft., most recent use—storage, off-site use only

Bldg. 9000

Fort Benning

Ft. Benning Co: Chattachoochee GA 31905-

Landholding Agency: Army

Property Number: 21200420045

Status: Excess

Comment: 9313 sq. ft., most recent use—headquarters bldg., off-site use only

Bldgs. 9002, 9005

Fort Benning

Ft. Benning Co: Chattachoochee GA 31905-

Landholding Agency: Army

Property Number: 21200420046

Status: Excess

Comment: 3555 sq. ft., most recent use—classroom, off-site use only

Bldg. 9025

Fort Benning

Ft. Benning Co: Chattachoochee GA 31905-

Landholding Agency: Army

Property Number: 21200420047

Status: Excess

Comment: 3707 sq. ft., most recent use—headquarters bldg., off-site use only

Bldg. 9026

Fort Benning

Ft. Benning Co: Chattachoochee GA 31905-

Landholding Agency: Army

Property Number: 21200420048

Status: Excess

Comment: 3867 sq. ft., most recent use—headquarters bldg., off-site use only

Bldg. T01

Fort Stewart

Ft. Stewart Co: Liberty GA 31314-

Landholding Agency: Army

Property Number: 21200420181

Status: Excess

Comment: 11,682 sq. ft., most recent use—admin., off-site use only

Bldg. T04

Fort Stewart

Ft. Stewart Co: Liberty GA 31314-

Landholding Agency: Army

Property Number: 21200420182

Status: Excess

Comment: 8292 sq. ft., most recent use—admin., off-site use only

Bldg. T05

Fort Stewart

Ft. Stewart Co: Liberty GA 31314-

Landholding Agency: Army

Property Number: 21200420183

Status: Excess

Comment: 7992 sq. ft., most recent use—admin., off-site use only

Bldg. T06

Fort Stewart

Ft. Stewart Co: Liberty GA 31314-

Landholding Agency: Army

Property Number: 21200420184

Status: Excess

Comment: 3305 sq. ft., most recent use—communication center, off-site use only

Bldg. T08

Fort Stewart

Ft. Stewart Co: Liberty GA 31314-

Landholding Agency: Army

Property Number: 21200420185

Status: Excess

Comment: 7670 sq. ft., most recent use—admin., off-site use only

Bldg. 00037

Fort Stewart

Ft. Stewart Co: Liberty GA 31314-

Landholding Agency: Army

Property Number: 21200420186

Status: Excess

Comment: 2833 sq. ft., most recent use—admin., off-site use only

Bldg. T55

Fort Stewart

Ft. Stewart Co: Liberty GA 31314-

Landholding Agency: Army

Property Number: 21200420187

Status: Excess

Comment: 6490 sq. ft., most recent use—admin., off-site use only

Bldg. T85

Fort Stewart

Ft. Stewart Co: Liberty GA 31314-

Landholding Agency: Army

Property Number: 21200420188

Status: Excess

Comment: 3283 sq. ft., most recent use—post chapel, off-site use only

Bldg. T131

Fort Stewart

Ft. Stewart Co: Liberty GA 31314-

Landholding Agency: Army

Property Number: 21200420189

Status: Excess

Comment: 4720 sq. ft., most recent use—admin., off-site use only

Bldg. T132

Fort Stewart

Ft. Stewart Co: Liberty GA 31314-

Landholding Agency: Army

Property Number: 21200420190

Status: Excess

Comment: 4720 sq. ft., most recent use—admin., off-site use only

Bldg. T157

Fort Stewart

Ft. Stewart Co: Liberty GA 31314-

Landholding Agency: Army

Property Number: 21200420191

Status: Excess

Comment: 1440 sq. ft., most recent use—education center, off-site use only

Bldg. 00916

Fort Stewart

Ft. Stewart Co: Liberty GA 31314-

Landholding Agency: Army

Property Number: 21200420192

Status: Excess

Comment: 642 sq. ft., most recent use—warehouse, off-site use only

Bldg. 00923

Fort Stewart

Ft. Stewart Co: Liberty GA 31314-

Landholding Agency: Army

Property Number: 21200420193

Status: Excess

Comment: 2436 sq. ft., most recent use—admin., off-site use only

Bldg. P925

Fort Stewart

Ft. Stewart Co: Liberty GA 31314-

Landholding Agency: Army

Property Number: 21200420195

Status: Excess

Comment: 3115 sq. ft., most recent use—motor repair shop, off-site use only

Bldg. 00926

Fort Stewart

Ft. Stewart Co: Liberty GA 31314-

Landholding Agency: Army

Property Number: 21200420196

Status: Excess

Comment: 357 sq. ft., most recent use—warehouse, off-site use only

Bldg. 01002

Fort Stewart

Ft. Stewart Co: Liberty GA 31314-

Landholding Agency: Army

Property Number: 21200420197

Status: Excess

Comment: 9267 sq. ft., most recent use—maintenance shop, off-site use only

Bldg. 01003

Fort Stewart

Ft. Stewart Co: Liberty GA 31314-

Landholding Agency: Army

Property Number: 21200420198

Status: Excess

Comment: 9267 sq. ft., most recent use—admin, off-site use only

Bldg. T1004

Fort Stewart

Ft. Stewart Co: Liberty GA 31314-

Landholding Agency: Army

Property Number: 21200420199

Status: Excess

Comment: 9272 sq. ft., most recent use—warehouse, off-site use only

Bldg. T1023

Fort Stewart

Ft. Stewart Co: Liberty GA 31314-

Landholding Agency: Army

Property Number: 21200420200

Status: Excess

Comment: 9267 sq. ft., most recent use—warehouse, off-site use only

Bldg. T1041

Fort Stewart

Ft. Stewart Co: Liberty GA 31314-

Landholding Agency: Army

Property Number: 21200420201

Status: Excess

Comment: 1626 sq. ft., most recent use—storage, off-site use only

Bldg. T1043

Fort Stewart

Ft. Stewart Co: Liberty GA 31314-

Landholding Agency: Army

Property Number: 21200420202

Status: Excess

Comment: 3825 sq. ft., most recent use—admin., off-site use only

Bldg. T1045

Fort Stewart

Ft. Stewart Co: Liberty GA 31314-

Landholding Agency: Army

Property Number: 21200420203

Status: Excess

Comment: 600 sq. ft., most recent use—shop, off-site use only

Bldg. T106

Fort Stewart

Ft. Stewart Co: Liberty GA 31314-

Landholding Agency: Army

Property Number: 21200420204

Status: Excess

Comment: 650 sq. ft., most recent use—heat plant bldg., off-site use only

Bldg. T1047

Fort Stewart

Ft. Stewart Co: Liberty GA 31314-

Landholding Agency: Army

Property Number: 21200420205

Status: Excess

Comment: 3000 sq. ft., most recent use—wash. platform/org., off-site use only

Bldg. T1049

Fort Stewart

Ft. Stewart Co: Liberty GA 31314-

Landholding Agency: Army

Property Number: 21200420206

Status: Excess

Comment: 768 sq. ft., most recent use—engine test facility, off-site use only

Bldg. T1050

Fort Stewart

Ft. Stewart Co: Liberty GA 31314-

Landholding Agency: Army

Property Number: 21200420207

Status: Excess

Comment: 3114 sq. ft., most recent use—shop, off-site use only

Bldg. T1051

Fort Stewart

Ft. Stewart Co: Liberty GA 31314-

Landholding Agency: Army

Property Number: 21200420208

Status: Excess

Comment: 12,205 sq. ft., most recent use—shop, off-site use only

Bldg. T1056

Fort Stewart

Ft. Stewart Co: Liberty GA 31314-

Landholding Agency: Army

Property Number: 21200420209

Status: Excess

Comment: 18,260 sq. ft., most recent use—shop, off-site use only

Bldg. T1057

Fort Stewart

Ft. Stewart Co: Liberty GA 31314-

Landholding Agency: Army

Property Number: 21200420210

Status: Excess

Comment: 18,260 sq. ft., most recent use—warehouse, off-site use only

Bldg. T1058

Fort Stewart

Ft. Stewart Co: Liberty GA 31314-

Landholding Agency: Army

Property Number: 21200420211

Status: Excess

Comment: 18,260 sq. ft., most recent use—storage, off-site use only

Bldg. T1062

Fort Stewart

Ft. Stewart Co: Liberty GA 31314-

Landholding Agency: Army

Property Number: 21200420212

Status: Excess

Comment: 5520 sq. ft., most recent use—general purpose, off-site use only

Bldg. T1069

Fort Stewart

Ft. Stewart Co: Liberty GA 31314-

Landholding Agency: Army

Property Number: 21200420213

Status: Excess

Comment: 14,096 sq. ft., most recent use—shop, off-site use only

Bldg. T1083

Fort Stewart

Ft. Stewart Co: Liberty GA 31314-

Landholding Agency: Army

Property Number: 21200420214

Status: Excess

Comment: 2816 sq. ft., most recent use—storage, off-site use only

Bldg. 19101

Fort Stewart

Ft. Stewart Co: Liberty GA 31314-

Landholding Agency: Army

Property Number: 21200420215

Status: Excess

Comment: 6773 sq. ft., most recent use—simulator bldg., off-site use only

Bldg. 19102

Fort Stewart

Ft. Stewart Co: Liberty GA 31314-

Landholding Agency: Army

Property Number: 21200420216

Status: Excess

Comment: 3250 sq. ft., most recent use—simulator bldg., off-site use only

Bldg. T19111

Fort Stewart

Ft. Stewart Co: Liberty GA 31314-

Landholding Agency: Army

Property Number: 21200420217

Status: Excess

Comment: 1440 sq. ft., most recent use—admin., off-site use only

Bldg. 19112

Fort Stewart

Ft. Stewart Co: Liberty GA 31314-

Landholding Agency: Army

Property Number: 21200420218

Status: Excess

Comment: 1344 sq. ft., most recent use—storage, off-site use only

Bldg. 19113

Fort Stewart

Ft. Stewart Co: Liberty GA 31314-

Landholding Agency: Army

Property Number: 21200420219

Status: Excess

Comment: 1440 sq. ft., most recent use—admin., off-site use only

Bldg. T19201

Fort Stewart

Ft. Stewart Co: Liberty GA 31314-

Landholding Agency: Army

Property Number: 21200420220

Status: Excess

Comment: 960 sq. ft., most recent use—physical fitness center, off-site use only

Bldg. 19202

Fort Stewart

Ft. Stewart Co: Liberty GA 31314-

Landholding Agency: Army

Property Number: 21200420221

Status: Excess

Comment: 1210 sq. ft., most recent use—community center, off-site use only

Bldgs. 19204 thru 19207

Fort Stewart

Ft. Stewart Co: Liberty GA 31314-

Landholding Agency: Army

Property Number: 21200420222

Status: Excess

Comment: 960 sq. ft., most recent use—admin., off-site use only

Bldgs. 19208 thru 19211

Fort Stewart

Ft. Stewart Co: Liberty GA 31314-

Landholding Agency: Army

Property Number: 21200420223

Status: Excess

Comment: 1540 sq. ft., most recent use—general installation bldg., off-site use only

Bldg. 19212

Fort Stewart

Ft. Stewart Co: Liberty GA 31314-

Landholding Agency: Army

Property Number: 21200420224

Status: Excess

Comment: 1248 sq. ft., off-site use only

Bldg. 19213

Fort Stewart

Ft. Stewart Co: Liberty GA 31314-

Landholding Agency: Army

Property Number: 21200420225

Status: Excess

Comment: 1540 sq. ft., most recent use—general installation bldg., off-site use only

Bldg. 19214

Fort Stewart

Ft. Stewart Co: Liberty GA 31314-

Landholding Agency: Army

Property Number: 21200420226

Status: Excess

Comment: 1796 sq. ft., most recent use—transient UPH, off-site use only

Bldg. 19215

Fort Stewart

Ft. Stewart Co: Liberty GA 31314-

Landholding Agency: Army

Property Number: 21200420227

Status: Excess

Comment: 1948 sq. ft., most recent use—transient UPH, off-site use only

Bldg. 19216

Fort Stewart

Ft. Stewart Co: Liberty GA 31314-

Landholding Agency: Army

Property Number: 21200420228

Status: Excess

Comment: 1540 sq. ft., most recent use—transient UPH, off-site use only

Bldg. 19217

Fort Stewart

Ft. Stewart Co: Liberty GA 31314-

Landholding Agency: Army

Property Number: 21200420229

Status: Excess

Comment: 120 sq. ft., most recent use—nav aids bldg., off-site use only

Bldg. 19218

Fort Stewart

Ft. Stewart Co: Liberty GA 31314-

Landholding Agency: Army

Property Number: 21200420230

Status: Excess

Comment: 2925 sq. ft., most recent use—general installation bldg., off-site use only

Bldgs. 19219, 19220

Fort Stewart

Ft. Stewart Co: Liberty GA 31314-

Landholding Agency: Army

Property Number: 21200420231

Status: Excess

Comment: 1200 sq. ft., most recent use—general installation bldg., off-site use only

Bldg. 19223

Fort Stewart

Ft. Stewart Co: Liberty GA 31314-

Landholding Agency: Army

Property Number: 21200420232

Status: Excess

Comment: 6433 sq. ft., most recent use—transient UPH, off-site use only

Bldg. 19225

Fort Stewart

Ft. Stewart Co: Liberty GA 31314-

Landholding Agency: Army

Property Number: 21200420233

Status: Excess

Comment: 4936 sq. ft., most recent use—dining facility, off-site use only

Bldg. 19226

Fort Stewart

Ft. Stewart Co: Liberty GA 31314-

Landholding Agency: Army

Property Number: 21200420234

Status: Excess

Comment: 136 sq. ft., most recent use—general purpose installation bldg., off-site use only

Bldg. T19228

Fort Stewart

Ft. Stewart Co: Liberty GA 31314-

Landholding Agency: Army

Property Number: 21200420235

Status: Excess

Comment: 400 sq. ft., most recent use—admin., off-site use only

Bldg. 19229

Fort Stewart

Ft. Stewart Co: Liberty GA 31314-

Landholding Agency: Army

Property Number: 21200420236

Status: Excess

Comment: 640 sq. ft., most recent use—vehicle shed, off-site use only

Bldg. 19232

Fort Stewart

Ft. Stewart Co: Liberty GA 31314-

Landholding Agency: Army

Property Number: 21200420237

Status: Excess

Comment: 96 sq. ft., most recent use—general purpose installation, off-site use only

Bldg. 19233

Fort Stewart

Ft. Stewart Co: Liberty GA 31314-

Landholding Agency: Army

Property Number: 21200420238

Status: Excess

Comment: 48 sq. ft., most recent use—fire support, off-site use only

Bldg. 19236

Fort Stewart

Ft. Stewart Co: Liberty GA 31314-

Landholding Agency: Army

Property Number: 21200420239

Status: Excess

Comment: 1617 sq. ft., most recent use—transient UPH, off-site use only

Bldg. 19238

Fort Stewart

Ft. Stewart Co: Liberty GA 31314-

Landholding Agency: Army

Property Number: 21200420240

Status: Excess

Comment: 738 sq. ft., off-site use only

Bldg. 01674

Fort Benning

Ft. Benning Co: Chattachoochee GA 31905-

Landholding Agency: Army

Property Number: 21200510056

Status: Unutilized

Comment: 5311 sq. ft., needs rehab, most recent use—gen. inst., off-site use only

Bldg. 01675

Fort Benning

Ft. Benning Co: Chattachoochee GA 31905-

Landholding Agency: Army

Property Number: 21200510057

Status: Unutilized

Comment: 5475 sq. ft., needs rehab, most recent use—gen. inst., off-site use only

Bldg. 01676

Fort Benning

Ft. Benning Co: Chattachoochee GA 31905-

Landholding Agency: Army

Property Number: 21200510058

Status: Unutilized

Comment: 7209 sq. ft., needs rehab, most recent use—gen. inst., off-site use only

Bldg. 01677

Fort Benning

Ft. Benning Co: GA 31905-

Landholding Agency: Army

Property Number: 21200510059

Status: Unutilized

Comment: 5311 sq. ft., needs rehab, most recent use—gen. inst., off-site use only

Bldg. 01678

Fort Benning

Ft. Benning Co: Chattachoochee GA 31905-

Landholding Agency: Army

Property Number: 21200510060

Status: Unutilized

Comment: 6488 sq. ft., needs rehab, most recent use—gen. inst., off-site use only

Bldg. 05887

Fort Benning

Ft. Benning Co: Chattachoochee GA 31905-

Landholding Agency: Army

Property Number: 21200510061

Status: Unutilized

Comment: 1344 sq. ft., needs rehab, most recent use—admin., off-site use only

Bldg. 01305

Hunter Army Airfield

Chatham Co: GA 31409-

Landholding Agency: Army

Property Number: 21200510063

Status: Excess

Comment: 400 sq. ft., most recent use—general purpose, off-site use only

Bldg. 00285

Fort Stewart

Ft. Stewart Co: Liberty GA 31314-

Landholding Agency: Army

Property Number: 21200510064

Status: Excess

Comment: 6087 sq. ft., most recent use—police station, off-site use only

Bldg. 00051

Fort Stewart

Liberty Co: GA 31314-

Landholding Agency: Army

Property Number: 21200520087

Status: Excess

Comment: 3196 sq. ft., most recent use—court room, off-site use only

Bldg. 00052

Fort Stewart

Liberty Co: GA 31314-

Landholding Agency: Army

Property Number: 21200520088

Status: Excess

Comment: 1250 sq. ft., most recent use—admin., off-site use only

Bldg. 00053

Fort Stewart

Liberty Co: GA 31314-

Landholding Agency: Army

Property Number: 21200520089

Status: Excess

Comment: 2844 sq. ft., most recent use—admin., off-site use only

Bldg. 00054

Fort Stewart

Liberty Co: GA 31314-

Landholding Agency: Army

Property Number: 21200520090

Status: Excess

Comment: 4425 sq. ft., most recent use—admin., off-site use only

Bldg. 00451

Fort Stewart

Liberty Co: GA 31314-

Landholding Agency: Army

Property Number: 21200520091

Status: Excess

Comment: 2750 sq. ft., most recent use—exchange service, off-site use only

Bldg. 00106

Fort Benning

Chattachoochee Co: GA 31905-

Landholding Agency: Army

Property Number: 21200520092

Status: Unutilized

Comment: 3625 sq. ft., poor condition, most recent use—snack bar, off-site use only

Bldg. 02023

Fort Benning

Chattahoochee Co: GA 31905-

Landholding Agency: Army

Property Number: 21200520093

Status: Unutilized

Comment: 6138 sq. ft., poor condition, most recent use—Fh Sr NCO, off-site use only

Bldg. 2750

Fort Benning

Chattachoochee Co: GA 31905-

Landholding Agency: Army

Property Number: 21200520094

Status: Unutilized

Comment: 3707 sq. ft., poor condition, most recent use—health clinic, off-site use only

Bldg. 2819

Fort Benning

Chattachoochee Co: GA 31905-

Landholding Agency: Army

Property Number: 21200520095

Status: Unutilized

Comment: 40,442 sq. ft., poor condition, off-site use only

Bldg. 2843

Fort Benning

Chattahoochee Co: GA 31905-

Landholding Agency: Army

Property Number: 21200520096

Status: Unutilized

Comment: 9000 sq. ft., poor condition, most recent use—auto center, off-site use only

Bldg. 9013

Fort Benning

Chattahoochee Co: GA 31905-

Landholding Agency: Army

Property Number: 21200520099

Status: Unutilized

Comment: 40303 sq. ft., poor condition, most recent use—enlisted housing, off-site use only

5 Bldgs.

Fort Benning 9014, 9015, 9018, 9022, 9053

Chattahoochee Co: GA 31905-

Landholding Agency: Army

Property Number: 21200520100

Status: Unutilized

Comment: 50620 sq. ft., poor condition, most recent use—enlisted housing, off-site use only

Bldg. 9050

Fort Benning

Chattahoochee Co: GA 31905-

Landholding Agency: Army

Property Number: 21200520104

Status: Unutilized

Comment: 9313 sq. ft., poor condition, most recent use—BDE HQ Bldg., off-site use only

Bldg. 9051

Fort Benning

Chattahoochee Co: GA 31905-

Landholding Agency: Army

Property Number: 21200520105

Status: Unutilized

Comment: 684 sq. ft., poor condition, most recent use—health clinic, off-site use only

Bldg. 09075

Fort Benning

Chattahoochee Co: GA 31905-

Landholding Agency: Army

Property Number: 21200520106

Status: Unutilized

Comment: 1500 sq. ft., poor condition, most recent use—BN HQ Bldg., off-site use only

Bldg. 9234

Fort Benning

Chattahoochee Co: GA 31905-

Landholding Agency: Army

Property Number: 21200520109

Status: Unutilized

Comment: 1200 sq. ft., poor condition, most recent use—exchange outlet, off-site use only

Bldgs. 10039, 10041

Fort Benning

Muscogee Co: GA 31905-

Landholding Agency: Army

Property Number: 21200520110

Status: Unutilized

Comment: 2375 sq. ft., poor condition, most recent use FH JR NCO/ENL, off-site use only

Bldg. 11326

Fort Benning

Muscogee Co: GA 31905-

Landholding Agency: Army

Property Number: 21200520112

Status: Unutilized

Comment: 9602 sq. ft., poor condition, most recent use—FH JR NCO/ENL, off-site use only

Indiana

Bldg. 301

Fort Benjamin Harrison

Indianapolis Co: Marion IN 45216-

Landholding Agency: Army

Property Number: 21200320098

Status: Unutilized

Comment: 1564 sq. ft., possible asbestos/lead paint, most recent use—storage shed, off-site use only

Bldg. 302

Fort Benjamin Harrison

Indianapolis Co: Marion IN 46216-

Landholding Agency: Army

Property Number: 21200320099

Status: Unutilized

Comment: 400 sq. ft., possible asbestos/lead paint, most recent use—switch station, off-site use only

Bldg. 303

Fort Benjamin Harrison

Indianapolis Co: Marion IN 46216-

Landholding Agency: Army

Property Number: 21200320100

Status: Unutilized

Comment: 462 sq. ft., possible asbestos/lead paint, most recent use—heat plant bldg., off-site use only

Bldg. 304

Fort Benjamin Harrison

Indianapolis Co: Marion IN 46216-

Landholding Agency: Army

Property Number: 21200320101

Status: Unutilized

Comment: 896 sq. ft., possible asbestos/lead paint, most recent use—heat plant bldg., off-site use only

Bldg. 334

Fort Benjamin Harrison

Indianapolis Co: Marion IN 46216-

Landholding Agency: Army

Property Number: 21200320102

Status: Unutilized

Comment: 652 sq. ft., possible asbestos/lead paint, off-site use only

Bldg. 337

Fort Benjamin Harrison

Indianapolis Co: Marion IN 46216-

Landholding Agency: Army

Property Number: 21200320103

Status: Unutilized

Comment: 675 sq. ft., possible asbestos/lead paint, off-site use only

Maryland

Bldg. 2282C

Fort George G. Meade

Fort Meade Co: Anne Arundel MD 20755-

Landholding Agency: Army

Property Number: 21200230059

Status: Unutilized

Comment: 46 sq. ft., needs rehab, most recent use—sentry tower, off-site use only

Bldg. 8608

Fort George G. Meade

Ft. Meade MD 20755-5115

Landholding Agency: Army

Property Number: 21200410099

Status: Unutilized

Comment: 2372 sq. ft., concrete block, most recent use—PX exchange, off-site use only

Bldg. 8612

Fort George G. Meade

Ft. Meade MD 20755-5115

Landholding Agency: Army

Property Number: 21200410101

Status: Unutilized

Comment: 2372 sq. ft., concrete block, most recent use—family life ctr., off-site use only

Bldg. 0001A

Federal Support Center

Olney Co: Montgomery MD 20882-

Landholding Agency: Army

Property Number: 21200520114

Status: Unutilized

Comment: 9000 sq. ft., most recent use—storage

Bldg. 0001C

Federal Support Center

Olney Co: Montgomery MD 20882-

Landholding Agency: Army

Property Number: 21200520115

Status: Unutilized

Comment: 2904 sq. ft., most recent use—mess hall

Bldgs. 00032, 00H14, 00H24

Federal Support Center

Olney Co: Montgomery MD 20882-

Landholding Agency: Army

Property Number: 21200520116

Status: Unutilized

Comment: various sq. ft., most recent use—storage

Bldgs. 00034, 00H016

Federal Support Center

Olney Co: Montgomery MD 20882-

Landholding Agency: Army

Property Number: 21200520117

Status: Unutilized

Comment: 400/39 sq. ft., most recent use—storage

Bldgs. 00H10, 00H12

Federal Support Center

Olney Co: Montgomery MD 20882-

Landholding Agency: Army

Property Number: 21200520118

Status: Unutilized

Comment: 2160/469 sq. ft., most recent use—vehicle maintenance

Michigan

Bldg. 00001

Sheridan Hall USARC

501 Euclid Avenue

Helena Co: Lewis & Clark MI 59601-2865

Landholding Agency: Army

Property Number: 21200510066

Status: Unutilized

Comment: 19,321 sq. ft., most recent use—reserve center

Missouri

Bldg. 1230

Fort Leonard Wood

Ft. Leonard Wood Co: Pulaski MO 65743-8944

Landholding Agency: Army

Property Number: 21200340087

Status: Unutilized

Comment: 9160 sq. ft., most recent use—training, off-site use only

Bldg. 1621

Fort Leonard Wood

Ft. Leonard Wood Co: Pulaski MO 65743-8944

Landholding Agency: Army

Property Number: 21200340088

Status: Unutilized

Comment: 2400 sq. ft., most recent use—exchange branch, off-site use only

Bldg. 5760

Fort Leonard Wood

Ft. Leonard Wood Co: Pulaski MO 65743-8944

Landholding Agency: Army

Property Number: 21200410102

Status: Unutilized

Comment: 2000 sq. ft., most recent use—classroom, off-site use only

Bldg. 5762

Fort Leonard Wood

Ft. Leonard Wood Co: Pulaski MO 65743-8944

Landholding Agency: Army

Property Number: 21200410103

Status: Unutilized

Comment: 104 sq. ft., off-site use only

Bldg. 5763

Fort Leonard Wood

Ft. Leonard Wood Co: Pulaski MO 65743-8944

Landholding Agency: Army

Property Number: 21200410104

Status: Unutilized

Comment: 120 sq. ft., most recent use—observation tower, off-site use only

Bldg. 5765

Fort Leonard Wood

Ft. Leonard Wood Co: Pulaski MO 65743-8944

Landholding Agency: Army

Property Number: 21200410105

Status: Unutilized

Comment: 800 sq. ft., most recent use—range support, off-site use only

Bldg. 5760

Fort Leonard Wood

Ft. Leonard Wood Co: Pulaski MO 65743-8944

Landholding Agency: Army

Property Number: 21200420059

Status: Unutilized

Comment: 2000 sq. ft., most recent use—classroom, off-site use only

Bldg. 5762

Fort Leonard Wood

Ft. Leonard Wood Co: Pulaski MO 65743-8944

Landholding Agency: Army

Property Number: 21200420060

Status: Unutilized

Comment: 104 sq. ft., off-site use only

Bldg. 5763

Fort Leonard Wood

Ft. Leonard Wood Co: Pulaski MO 65743-8944

Landholding Agency: Army

Property Number: 21200420061

Status: Unutilized

Comment: 120 sq. ft., most recent use—obs. tower, off-site use only

Bldg. 5765

Fort Leonard Wood

Ft. Leonard Wood Co: Pulaski MO 65743-8944

Landholding Agency: Army

Property Number: 21200420062

Status: Unutilized

Comment: 800 sq. ft., most recent use—support bldg., off-site use only

New York

Bldgs. 1511-1518

U.S. Military Academy

Training Area

Highlands Co: Orange NY 10996-

Landholding Agency: Army

Property Number: 21200320160

Status: Unutilized

Comment: 2400 sq. ft. each, needs rehab, most recent use—barracks, off-site use only

Bldgs. 1523-1526

U.S. Military Academy

Training Area

Highlands Co: Orange NY 10996-

Landholding Agency: Army

Property Number: 21200320161

Status: Unutilized

Comment: 2400 sq. ft. each, needs rehab, most recent use—barracks, off-site use only

Bldgs. 1704-1705, 1721-1722

U.S. Military Academy

Training Area

Highlands Co: Orange NY 10996-

Landholding Agency: Army

Property Number: 21200320162

Status: Unutilized

Comment: 2400 sq. ft. each, needs rehab, most recent use—barracks, off-site use only

Bldg. 1723

U.S. Military Academy

Training Area

Highlands Co: Orange NY 10996-

Landholding Agency: Army

Property Number: 21200320163

Status: Unutilized

Comment: 2400 sq. ft., needs rehab, most recent use—day room, off-site use only

Bldgs. 1706-1709

U.S. Military Academy

Training Area

Highlands Co: Orange NY 10996-

Landholding Agency: Army

Property Number: 21200320164

Status: Unutilized

Comment: 2400 sq. ft. each, needs rehab, most recent use—barracks, off-site use only

Bldgs. 1731-1735

U.S. Military Academy

Training Area

Highlands Co: Orange NY 10996-

Landholding Agency: Army

Property Number: 21200320165

Status: Unutilized

Comment: 2400 sq. ft. each, needs rehab, most recent use—barracks, off-site use only

North Carolina

Bldgs. A2245, A2345

Fort Bragg

Ft. Bragg Co: Cumberland NC 28310-

Landholding Agency: Army

Property Number: 21200240084

Status: Excess

Comment: 3444 sq. ft. each, possible asbestos/lead paint, most recent use—vehicle maint. shop, off-site use only

Bldg. N4116

Fort Bragg

Ft. Bragg Co: Cumberland NC 28310-

Landholding Agency: Army

Property Number: 21200240087

Status: Excess

Comment: 3944 sq. ft., possible asbestos/lead paint, most recent use—community facility, off-site use only

Texas

Bldgs. 4219, 4227

Fort Hood

Ft. Hood Co: Bell TX 76544-

Landholding Agency: Army

Property Number: 21200220139

Status: Unutilized

Comment: 8056 & 10,500 sq. ft., most recent use—admin., off-site use only

Bldgs. 4229, 4230, 4231

Fort Hood

Ft. Hood Co: Bell TX 76544-

Landholding Agency: Army

Property Number: 21200220140

Status: Unutilized

Comment: 9000 sq. ft., most recent use—hq. bldg., off-site use only

Bldgs. 4244, 4246

Fort Hood

Ft. Hood Co: Bell TX 76544-

Landholding Agency: Army

Property Number: 21200220141

Status: Unutilized

Comment: 9000 sq. ft., most recent use—storage, off-site use only

Bldgs. 4260, 4261, 4262

Fort Hood

Ft. Hood Co: Bell TX 76544-

Landholding Agency: Army

Property Number: 21200220142

Status: Unutilized

Comment: 7680 sq. ft., most recent use—storage, off-site use only

Bldg. 00241

Fort Hood

Ft. Hood Co: Bell TX 76544-

Landholding Agency: Army

Property Number: 21200430067

Status: Unutilized

Comment: 1008 sq. ft.

Bldgs. 00242-00244

Fort Hood

Ft. Hood Co: Bell TX 76544-

Landholding Agency: Army

Property Number: 21200430068

Status: Unutilized

Comment: 1008 sq. ft. each, most recent use—instruction bldg.

Bldgs. 00245-00247

Fort Hood

Ft. Hood Co: Bell TX 76544-

Landholding Agency: Army

Property Number: 21200430069

Status: Unutilized

Comment: 1008 sq. ft. each, most recent use—instruction bldg.

Bldgs. 00248-00249

Fort Hood

Ft. Hood Co: Bell TX 76544-

Landholding Agency: Army

Property Number: 21200430070

Status: Unutilized

Comment: 1008 sq. ft. each, most recent use—instruction bldg.

Bldgs. 00250-00252

Fort Hood

Ft. Hood Co: Bell TX 76544-

Landholding Agency: Army

Property Number: 21200430071

Status: Unutilized

Comment: 1008 sq. ft. each, most recent use—instruction bldg.

Bldgs. 00253-00254

Fort Hood

Ft. Hood Co: Bell TX 76544-

Landholding Agency: Army

Property Number: 21200430072

Status: Unutilized

Comment: 1008 sq. ft. each, most recent use—instruction bldg.

Bldg. 00255

Fort Hood

Bell Co: TX 76544-

Landholding Agency: Army

Property Number: 21200440077

Status: Excess

Comment: 528 sq. ft., possible asbestos, off-site use only

3 Bldgs.

Fort Hood

Bell Co: TX 76544-

Location: 00256, 00257, 00258

Landholding Agency: Army

Property Number: 21200440078

Status: Excess

Comment: 2504 sq. ft., possible asbestos, most recent use—classroom, off-site use only

Bldgs. 00259, 00267

Fort Hood

Bell Co: TX 76544-

Landholding Agency: Army

Property Number: 21200440079

Status: Excess

Comment: 288 & 168 sq. ft., possible asbestos, most recent use—lunch room, off-site use only

Bldgs. 00268-00269

Fort Hood

Bell Co: TX 76544-

Landholding Agency: Army

Property Number: 21200440080

Status: Excess

Comment: 2304 sq. ft., possible asbestos, most recent use—instruction, off-site use only

3 Bldgs.

Fort Hood

Bell Co: TX 76544-

Location: 00716, 00717, 00718

Landholding Agency: Army

Property Number: 21200440081

Status: Excess

Comment: 3200 sq. ft., possible asbestos, most recent use—hq. bldg., off-site use only

Bldg. 00720

Fort Hood

Bell Co: TX 76544-

Landholding Agency: Army

Property Number: 21200440082

Status: Excess

Comment: 3200 sq. ft., possible asbestos, most recent use—shipping, off-site use only

Bldg. 00722

Fort Hood

Bell Co: TX 76544-

Landholding Agency: Army

Property Number: 21200440083

Status: Excess

Comment: 2665 sq. ft., possible asbestos, most recent use—dining, off-site use only

Bldg. 00728

Fort Hood

Bell Co: TX 76544-

Landholding Agency: Army

Property Number: 21200440084

Status: Excess

Comment: 2400 sq. ft., possible asbestos, most recent use—hq. bldg., off-site use only

Bldg. 00729

Fort Hood

Bell Co: TX 76544-

Landholding Agency: Army

Property Number: 21200440085

Status: Excess

Comment: 2400 sq. ft., possible asbestos, most recent use—auto aide, off-site use only

Bldgs. 01121, 01156

Fort Hood

Bell Co: TX 76544-

Landholding Agency: Army

Property Number: 21200440086

Status: Excess

Comment: 6728, 7020 sq. ft., possible asbestos, most recent use—general, off-site use only

Bldg. 04220

Fort Hood

Bell Co: TX 76544-

Landholding Agency: Army

Property Number: 21200440087

Status: Excess

Comment: 12,427 sq. ft., possible asbestos, most recent use—general, off-site use only

Bldgs. 04223-04226

Fort Hood

Bell Co: TX 76544-

Landholding Agency: Army

Property Number: 21200440088

Status: Excess

Comment: 9000 sq. ft., possible asbestos, most recent use—general, off-site use only

Bldg. 04280

Fort Hood

Bell Co: TX 76544-

Landholding Agency: Army

Property Number: 21200440089

Status: Excess

Comment: 96 sq. ft., possible asbestos, most recent use—scale house, off-site use only

Bldg. 04335

Fort Hood

Bell Co: TX 76544-

Landholding Agency: Army

Property Number: 21200440090

Status: Excess

Comment: 3378 sq. ft., possible asbestos, most recent use—general, off-site use only

6 Bldgs.

Fort Hood

Bell Co: TX 76544-

Location: 0441, 04412, 04413, 04414, 04418, 04432

Landholding Agency: Army

Property Number: 21200440091

Status: Excess

Comment: various sq. ft., possible asbestos, most recent use—hq. bldg., off-site use only

Bldg. 04450

Fort Hood

Bell Co: TX 76544-

Landholding Agency: Army

Property Number: 21200440092

Status: Excess

Comment: 5310 sq. ft., possible asbestos, most recent use—general, off-site use only

3 Bldgs.

Fort Hood

Bell Co: TX 76544-

Location: 04452, 04456, 04457

Landholding Agency: Army

Property Number: 21200440093

Status: Excess

Comment: 5310 sq. ft., possible asbestos, most recent use—hq. bldg., off-site use only

Bldg. 04465

Fort Hood

Bell Co: TX 76544-

Landholding Agency: Army

Property Number: 21200440094

Status: Excess

Comment: 5310 sq. ft., possible asbestos, most recent use—general, off-site use only

Bldgs. 04466-04467

Fort Hood

Bell Co: TX 76544-

Landholding Agency: Army

Property Number: 21200440095

Status: Excess

Comment: 5310 sq. ft., possible asbestos, most recent use—hq. bldg., off-site use only

Bldg. 04468

Fort Hood

Bell Co: TX 76544-

Landholding Agency: Army

Property Number: 21200440096

Status: Excess

Comment: 3100 sq. ft., possible asbestos, most recent use—misc., off-site use only

Bldg. 04473

Fort Hood

Bell Co: TX 76544-

Landholding Agency: Army

Property Number: 21200440097

Status: Excess

Comment: 3100 sq. ft., possible asbestos, most recent use—general, off-site use only

Bldgs. 04475-04476

Fort Hood

Bell Co: TX 76544-

Landholding Agency: Army

Property Number: 21200440098

Status: Excess

Comment: 3241 sq. ft., possible asbestos, most recent use—general, off-site use only

Bldg. 04477

Fort Hood

Bell Co: TX 76544-

Landholding Agency: Army

Property Number: 21200440099

Status: Excess

Comment: 3100 sq. ft., possible asbestos, most recent use—general, off-site use only

Bldg. 07002

Fort Hood

Bell Co: TX 76544-

Landholding Agency: Army

Property Number: 21200440100

Status: Excess

Comment: 2598 sq. ft., possible asbestos, most recent use—fire station, off-site use only

Bldg. 7002A

Fort Hood

Bell Co: TX 76544-

Landholding Agency: Army

Property Number: 21200440101

Status: Excess

Comment: 73 sq. ft., possible asbestos, most recent use—storage, off-site use only

Bldgs. 31007, 31009

Fort Hood

Bell Co: TX 76544-

Landholding Agency: Army

Property Number: 21200440102

Status: Excess

Comment: 139,693 sq. ft., possible asbestos, most recent use—barracks/operations, off-site use only

Bldg. 31008

Fort Hood

Bell Co: TX 76544-

Landholding Agency: Army

Property Number: 21200440103

Status: Excess

Comment: 17,936 sq. ft., possible asbestos, most recent use—dining, off-site use only

Bldg. 31011

Fort Hood

Bell Co: TX 76544-

Landholding Agency: Army

Property Number: 21200440104

Status: Excess

Comment: 23624 sq. ft., possible asbestos, most recent use—hq. bldg., off-site use only

Bldg. 57001

Fort Hood

Bell Co: TX 76544-

Landholding Agency: Army

Property Number: 21200440105

Status: Excess

Comment: 53,024 sq. ft., possible asbestos, most recent use—storage, off-site use only

Bldgs. 90039-90040

Fort Hood

Bell Co: TX 76544-

Landholding Agency: Army

Property Number: 21200440106

Status: Excess

Comment: 13,124 sq. ft., possible asbestos, most recent use—general, off-site use only

Bldgs. 90053-90054

Fort Hood

Bell Co: TX 76544-

Landholding Agency: Army

Property Number: 21200440107

Status: Excess

Comment: 884 & 206 sq. ft., possible asbestos, most recent use—storage, off-site use only

Bldg. 00127

Fort Hood

Bell Co: TX 76544-

Landholding Agency: Army

Property Number: 21200520120

Status: Excess

Comment: 3753 sq. ft., presence of asbestos, most recent use—admin., off-site use only

Bldg. 00131

Fort Hood

Bell Co: TX 76544-

Landholding Agency: Army

Property Number: 21200520121

Status: Excess

Comment: 2250 sq. ft., most recent use—admin., off-site use only

Virginia

Bldg. T2827

Fort Pickett

Blackstone Co: Nottoway VA 23824—

Landholding Agency: Army

Property Number: 21200320172

Status: Unutilized

Comment: 3550 sq. ft., presence of asbestos, most recent use—dining, off-site use only

Bldg. T2841

Fort Pickett

Blackstone Co: Nottoway VA 23824

Landholding Agency: Army

Property Number: 21200320173

Status: Unutilized

Comment: 2950 sq. ft., presence of asbestos, most recent use—dining, off-site use only

Washington

Bldg. 05904

Fort Lewis

Ft. Lewis Co: Pierce WA 98433-9500

Landholding Agency: Army

Property Number: 21200240092

Status: Excess

Comment: 82 sq. ft., most recent use—guard shack, off-site use only

Unsuitable Properties

Buildings (by State)

Alabama

68 Bldgs.

Redstone Arsenal

Redstone Arsenal Co: Madison AL 35898

Landholding Agency: Army

Property Number: 21200040001-21200040012, 21200120018, 21200220003-21200220004, 21200240007-21200240022, 21200330001-2120330004, 21200340011, 21200340095, 21200420068-21200420071, 21200440001, 21200520002

Status: Unutilized

Reason: Secured area; Extensive deterioration

6 Bldgs., Fort Rucker

Ft. Rucker Co: Dale AL 36362

Landholding Agency: Army

Property Number: 219740006, 21200040013, 21200240003, 21200420073, 21200430006, 21200440005

Status: Unutilized

Reason: Extensive deterioration

Bldg. 01271

Fort McClellan

Ft. McClellan Co: Calhoun AL 36205-5000

Landholding Agency: Army

Property Number: 21200430004

Status: Unutilized

Reason: Extensive deterioration

Bldg. 00209

Anniston Army Depot

Calhoun AL 36201-4199

Landholding Agency: Army

Property Number: 21200520001

Status: Unutilized

Reason: Extensive deterioration

Alaska

19 Bldgs., Fort Wainwright

Ft. Wainwright AK 99703

Landholding Agency: Army

Property Number: 219710090, 219710195-219710198, 219810002, 219810007, 21199920001, 21200340007-21200340010, 21200430001-21200430003

Status: Unutilized

Reason: Within 2000 ft. of flammable or explosive material; Secured area; Floodway (Some are extensively deteriorated)

11 Bldgs., Fort Richardson

Ft. Richardson Co: AK 99505

Landholding Agency: Army

Property Number: 21200340001-21200340006

Status: Excess

Reason: Extensive deterioration

Arizona

32 Bldgs.

Navajo Depot Activity

Bellemont Co: Coconino AZ 86015-

Location:

12 miles west of Flagstaff, Arizona on I-40

Landholding Agency: Army

Property Number: 219014560-219014591

Status: Underutilized

Reason: Secured area

10 properties: 753 earth covered igloos; above ground standard magazines

Navajo Depot Activity

Bellemont Co: Coconino AZ 86015

Location: 12 miles west of Flagstaff, Arizona on I-40

Landholding Agency: Army

Property Number: 219014592-219014601

Status: Underutilized

Reason: Secured area

7 Bldgs.

Navajo Depot Activity

Bellemont Co: Coconino AZ 86015-5000

Location: 12 miles west of Flagstaff on I-40

Landholding Agency: Army

Property Number: 219030273, 219120177-219120181

Status: Unutilized

Reason: Secured area

77 Bldgs.

Camp Navajo

Bellemont Co: AZ 86015

Landholding Agency: Army

Property Number: 21200140006-21200140010

Status: Unutilized

Reasons: Within 2000 ft. of flammable or explosive material; Secured area (Most are extensively deteriorated)

Bldgs. 15348, 15344

Fort Huachuca

Ft. Huachuca Co: Cochise AZ 85613

Landholding Agencuy: Army

Property Number: 21200240024, 21200330005

Status: Excess

Reason: Extensive deterioration

Arkansas

190 Bldgs., Fort Chaffee

Ft. Chaffee Co: Sebastian AR 72905-5000

Landholding Agency: Army

Property Number: 219630019, 219630021, 219630029, 219640462-219640477, 21200110001-21200110017, 21200140011-21200140014, 21200530001

Status: Unutilized

Reason: Extensive deterioration

California

Bldg. 18

Riverbank Army Ammunition Plant

5300 Claus Road

Riverbank Co: Stanislaus CA 95367-

Landholding Agency: Army

Property Number: 219012554

Status: Unutilized

Reason: Within 2000 ft. of flammable or explosive material; Secured area

12 Bldgs.

Riverbank Army Ammunition Plant

Riverbank Co: Stanislaus CA 95367-

Landholding Agency: Army

Property Number: 219013582-219013588, 219013590, 219240444-219240446, 21200530003

Status: Underutilized

Reason: Secured area

Bldgs. 13, 171, 178 Riverbank Ammun Plant

5300 Claus Road

Riverbank Co: Stanislaus CA 95367-

Landholding Agency: Army

Property Number: 219120162-219120164

Status: Underutilized

Reason: Secured area

40 Bldgs.

DDDRW Sharpe Facility

Tracy Co: San Joaquin CA 95331

Landholding Agency: Army

Property Number: 219610289, 21199930021, 21200030005-21200030015, 21200040015, 21200120029-21200120039, 21200130004, 21200240025-21200240030, 21200330007

Status: Unutilized

Reason: Secured area

61 Bldgs.

Los Alamitos Co: Orange CA 90720-5001

Landholding Agency: Army

Property Number: 219520040, 21200530002

Status: Unutilized

Reason: Extensive deterioration

10 Bldgs.

Sierra Army Depot

Herlong Co: Lassen CA 96113

Landholding Agency: Army

Property Number: 21199840015 21199920033-21199920036, 21199940052-21199940056

Status: Underutilized

Reason: Within 2000 ft. of flammable or explosive material; Secured area

450 Bldgs., Camp Roberts

Camp Roberts Co: San Obispo CA

Landholding Agency: Army

Property Number: 21199730014, 219820192-219820235, 21200530004

Status: Excess

Reason: Secured area; Extensive deterioration

27 Bldgs.

Presidio of Monterey Annex

Seaside Co: Monterey CA 93944

Landholding Agency: Army

Property Number: 21199940051, 21200130005

Status: Unutilized

Reason: Extensive deterioration

46 Bldgs.

Fort Irwin

Ft. Irwin Co: San Bernardino CA 92310

Landholding Agency: Army

Property Number: 21199920037-21199920038, 21200030016-21200030018, 21200040014, 21200110018-21200110020, 21200130002-21200130003, 21200210001-21200210005, 21200240031-21200240033

Status: Unutilized

Reason: Secured area; Extensive deterioration

Bldgs. 00635, 00796

Parks Reserve Forces

Dublin Co: Alameda CA 94568

Landholding Agency: Army

Property Number: 21200520003

Status: Unutilized

Reason: Extensive deterioration

Colorado

Bldgs. T-317, T-412, 431, 433

Rocky Mountain Arsenal

Commerce Co: Adams CO 80022-2180

Landholding Agency: Army

Property Number: 219320013-219320016

Status: Unutilized

Reason: Within 2000 ft. of flammable or explosive material; Secured area; Extensive deterioration

9 Bldgs. Fort Carson

Ft. Carson Co: El Paso CO 80913-5023

Landholding Agency: Army

Property Number: 219830024, 21200130006-21200130009, 21200420161-21200420164

Status: Unutilized

Reason: Extensive deterioration (Some are within 2000 ft. of flammable or explosive material)

5 Bldgs.

Pueblo Chemical Depot

Pueblo CO 81006-9330

Landholding Agency: Army

Property Number: 21200030019-21200030021, 21200420165-21200420166

Status: Unutilized

Reason: Extensive deterioration

Georgia

Fort Stewart

Sewage Treatment Plant

Ft. Stewart Co: Hinesville GA 31314-

Landholding Agency: Army

Property Number: 219013922

Status: Unutilized

Reason: Sewage treatment

Bldg. 986

Fort Gordon

Augusta Co: Richmond GA 30905-

Landholding Agency: Army

Property Number: 219640022

Status: Unutilized

Reason: Extensive deterioration

40 Bldgs., Fort Benning

Ft. Benning Co: Muscogee GA 31905

Landholding Agency: Army

Property Number: 219610320, 219720017-219720019, 219810028, 219810030, 219810035, 219830073, 21199930034, 21200030026, 21200330008-21200330010, 21200410001-21200410009, 21200430011-21200430016, 21200440009, 21200510003, 21200530005

Status: Unutilized

Reason: Extensive deterioration

32 Bldgs.

Fort Gillem

Forest Park Co: Clayton GA 30050

Landholding Agency: Army

Property Number: 219620815, 21199920044-21199920050, 21200140016, 21200220011-21200220012,21200230005, 21200340013-21200340016, 21200420074-21200420082

Status: Unutilized

Reason: Extensive deterioration; Secured area

Bldg. P8121, Fort Stewart

Hinesville Co: Liberty GA 31314

Landholding Agency: Army

Property Number: 21199940060

Status: Unutilized

Reason: Extensive Deterioration

2 Bldgs., Hunter Army Airfield

Savannah Co: Chatham GA 31409

Landholding Agency: Army

Property Number: 219830068, 21200430062

Status: Unutilized

Reason: Extensive deterioration

6 Bldgs., Fort McPherson

Ft. McPherson Co: Fulton GA 30330-5000

Landholding Agency: Army

Property Number: 21200040016-21200040018, 21200230004, 21200520004

Status: Unutilized

Reason: Secured area

Hawaii

16 Bldgs.

Schofield Barracks

Wahiawa Co: Wahiawa HI 96786-

Landholding Agency: Army

Property Number: 219014836-219014837, 219030361, 21200410012

Status: Unutilized

Reason: Secured area; (Most are extensively deteriorated)

Bldgs. 00001 thru 00051

Kipapa Ammo Storage Site

Honolulu Co: HI 96786

Landholding Agency: Army

Property Number: 21200520006

Status: Unutilized

Reason: Extensive deterioration

Bldgs. 00802, 01005, 01500 thru 01503

Wheeler Army Airfield

Honolulu Co: HI 96786

Landholding Agency: Army

Property Number: 2120052007-21200520008

Status: Unutilized

Reason: Extensive deterioration

130 Tunnels

Aliamanu

Honolulu Co: HI 96818

Landholding Agency: Army

Property Number: 21200440015-21200440017

Status: Unutilized

Reason: contamination

Illinois

5 Bldgs.

Rock Island Arsenal

Rock Island Co: Rock Island IL 61299-5000

Landholding Agency: Army

Property Number: 219110106, 219620428, 21200140043-21200140044, 21200530006

Status: Unutilized

Reason: Some are in a secured area; Some are extensively deteriorated; Some are within 2000 ft. of flammable or explosive material

15 Bldgs.

Charles Melvin Price Support Center

Granite City Co: Madison IL 62040

Landholding Agency: Army

Property Number: 219820027, 21199930042-21199930053

Status: Unutilized

Reason: Secured area, Floodway; Extensive deterioration

Bldgs. 111, 145

Col. Schulstad Memorial USARC

Arlington Heights Co: Cook IL 60005

Landholding Agency: Army

Property Number: 21200320012

Status: Unutilized

Reason: Extensive deterioration

Indiana

130 Bldgs.

Newport Army Ammunition Plant

Newport Co: Vermillion IN 47966-

Landholding Agency: Army

Property Number: 219011584, 219011586-219011587, 219011589-219011590, 219011592-219011627, 219011629-219011636, 219011638-219011641, 219210149, 219430336, 219430338, 219530079-219530096, 219740021-219740026, 219820031-219820032, 21199920063, 21200330015-21200330016, 21200440019

Status: Unutilized

Reason: Secured Area (Some are extensively deteriorated.)

2 Bldgs.

Atterbury Reserve Forces Training Area

Edinburgh Co: Johnson IN 46124-1096

Landholding Agency: Army

Property Number: 219230030-219230031

Status: Unutilized

Reason: Extensive deterioration

Bldgs. 300, 00112, 00123

Fort Benjamin Harrison

Indianapolis Co: Marion IN 46216

Landholding Agency: Army

Property Number: 21200320011, 21200430017

Status: Unutilized

Reason: Contamination

Iowa

118 Bldgs.

Iowa Army Ammunition Plant

Middletown Co: Des Moines IA 52638-

Landholding Agency: Army

Property Number: 219012605-219012607, 219012609, 219012611, 219012613, 219012620, 219012622, 219012624, 219013706-219013738, 219120172-219120174, 219440112-219440158, 219520002, 219520070, 219740027, 21200220022, 21200230019-21200230023, 21200330012-21200330014, 21200340017, 21200420083, 21200430018, 21200440018, 21200510004-21200510006, 21200520009

Status: Unutilized

Reason: (Many are in a Secured Area); (Most are within 2000 ft. of flammable or explosive material.)

27 Bldgs., Iowa Army Ammunition Plant

Middletown Co: Des Moines IA 52638

Landholding Agency: Army

Property Number: 219230005-219230029, 219310017, 219340091

Status: Unutilized

Reason: Extensive deterioration

Kansas

37 Bldgs.

Kansas Army Ammunition Plant

Production Area

Parsons Co: Labette KS 67357-

Landholding Agency: Army

Property Number: 219011909-219011945

Status: Unutilized

Reason: Secured area; (Most are within 2000 ft. of flammable or explosive material)

121 Bldgs.

Kansas Army Ammunition Plant

Parsons Co: Labette KS 67357

Landholding Agency: Army

Property Number: 219620518-219620638

Status: Unutilized

Reason: Secured area

Bldg. 00166

Fort Riley

Ft. Riley Co: Riley KS 66442

Landholding Agency: Army

Property Number: 21200310007

Status: Unutilized

Reason: Extensive deterioration

Kentucky

Bldg. 126

Lexington-Blue Grass Army Depot

Lexington Co: Fayette KY 40511-

Location: 12 miles northeast of Lexington, Kentucky.

Landholding Agency: Army

Property Number: 219011661

Status: Unutilized

Reason: Secured area; Sewage treatment facility

Bldg. 12

Lexington—Blue Grass Army Depot

Lexington Co: Fayette KY 40511-

Location: 12 miles Northeast of Lexington, Kentucky.

Landholding Agency: Army

Property Number: 219011663

Status: Unutilized

Reason: Industrial waste treatment plant

32 Bldgs., Fort Knox

Ft. Knox Co: Hardin KY 40121-

Landholding Agency: Army

Property Number: 21200130028-21200130029, 21200440025-21200440026, 21200510007-21200510009

Status: Unutilized

Reason: Extensive deterioration

13 Bldgs., Fort Campbell

Ft. Campbell Co: Christian KY 42223

Landholding Agency: Army

Property Number: 21200110038-21200110043, 21200140053, 21200220029, 21200330018, 21200420088, 21200520012-21200520015, 21200530007

Status: Unutilized

Reason: Extensive deterioration

Bldg. 00023

Blue Grass Army Depot

Richmond Co: Madison KY 40475

Landholding Agency: Army

Property Number: 21200520011

Status: Unutilized

Reason: Secured area

Louisiana

528 Bldgs.

Louisiana Army Ammunition Plant

Doylin Co: Webster LA 71023-

Landholding Agency: Army

Property Number: 219011714-219011716, 219011735-219011737, 219012112, 219013863-219013869, 219110131, 219240138-219240147, 219420332, 219610049-219610263, 219620002-219620200, 219620749-219620801, 219820047-219820078

Status: Unutilized

Reason: Secured area; (Most are within 2000 ft. of flammable or explosive material); (Some are extensively deteriorated)

42 Bldgs., Fort Polk

Ft. Polk Co: Vernon Parish LA 71459-7100

Landholding Agency: Army

Property Number: 21199920070, 21200130030-21200130043, 21200530008-21200530017

Status: Unutilized

Reason: Extensive deterioration; (Some are in Floodway)

Maryland

90 Bldgs.

Aberdeen Proving Ground

Aberdeen City Co: Harford MD 21005-5001

Landholding Agency: Army

Property Number: 219012610, 219012638-219012642, 219012658-219012662, 219014711, 219610489-219610490, 219730077, 219810076-219810112, 219820090-219820096, 21200120059-21200120060, 21200410017-21200410032, 21200420097-21200420103, 21200440027-21200440030, 21200510011-21200510013, 21200520021, 21200520072-21200520073

Status: Unutilized

Reason: Most are in a secured area. (Some are within 2000 ft. of flammable or explosive material); (Some are in a floodway); (Some are extensively deteriorated)

63 Bldgs. Ft. George G. Meade

Ft. Meade Co: Anne Arundel MD 20755-

Landholding Agency: Army

Property Number: 219810065, 21199910019, 21200140059-21200140060, 21200240046-21200240051, 21200410014-21200410016, 21200510017-21200510019, 21200520016-21200520020

Status: Unutilized

Reason: Extensive deterioration

Bldg. 00211, Curtis Bay Ordnance Depot

Baltimore Co: MD 21226

Landholding Agency: Army

Property Number: 21200320024

Status: Unutilized

Reason: Extensive deterioration

6 Bldgs., Fort Detrick

Frederick Co: MD 21702

Landholding Agency: Army

Property Number: 21200430019-21200430020, 21200510014-21200510016

Status: Unutilized

Reason: Secured area

Bldg. 0001B

Federal Support Center

Olney Co: Montgomery MD 20882

Landholding Agency: Army

Property Number: 21200530018

Status: Underutilized

Reason: Within 2000 ft. of flammable or explosive material

Massachusetts

Bldg. 3462, Camp Edwards

Massachusetts Military Reservation

Bourne Co: Barnstable MA 024620-5003

Landholding Agency: Army

Property Number: 219230095

Status: Unutilized

Reason: Secured area; Extensive deterioration

Bldg. 1211 Camp Edwards

Massachusetts Military Reservation

Bourne Co: Barnstable MA 02462-5003

Landholding Agency: Army

Property Number: 219310020

Status: Unutilized

Reason: Secured area

Facility No. 0G001

LTA Granby

Granby Co: Hampshire MA

Landholding Agency: Army

Property Number: 219810062

Status: Unutilized

Reason: Extensive deterioration

5 Bldgs.

Devens RFTA

Devens Co: MA 01432-4429

Landholding Agency: Army

Property Number: 21200340019-21200340021

Status: Unutilized

Reason: Extensive deterioration

6 Bldgs.

Fera USARC

Danvers Co: Essex MA 01923-1121

Landholding Agency: Army

Property Number: 21200420089-21200420092

Status: Unutilized

Reason: Extensive deterioration

Michigan

Bldgs. 5755-5756

Newport Weekend Training Site

Carleton Co: Monroe MI 48166

Landholding Agency: Army

Property Number: 219310060-219310061

Status: Unutilized

Reason: Secured area

Extensive deterioration

31 Bldgs.

Fort Custer Training Center

2501 26th Street

Augusta Co: Kalamazoo MI 49102-9205

Landholding Agency: Army

Property Number: 21200220058-21200220062, 21200410036-21200410042

Status: Unutilized

Reason: Extensive deterioration.

39 Bldgs.

US Army Garrison-Selfridge

Macomb Co: MI 48045

Landholding Agency: Army

Property Number: 21200420093, 21200510020-21200510023

Status: Unutilized

Reason: Secured area

4 Bldgs.

Poxin USAR Center

Southfield Co: Oakland MI 48034

Landholding Agency: Army

Property Number: 21200330026-21200330027, 21200420095

Status: Unutilized

Reason: Extensive deterioration

8 Bldgs.

Grayling Army Airfield

Grayling Co: Crawford MI 49739

Landholding Agency: Army

Property Number: 21200410034-21200410035

Status: Excess

Reason: Extensive deterioration

Bldg. 001, Crabble USARC

Saginaw MI 48601-4099

Landholding Agency:Army

Property Number: 21200420094

Status: Unutilized

Reason: Extensive deterioration

Bldg. 00714

Selfridge Air Natl Guard Base

Macomb Co: MI 48045

Landholding Agency: Army

Property Number: 21200440032

Status: Unutilized

Reason: Extensive deterioration

4 Bldgs.

Detroit Arsenal

T0209, T0216, T0246, T0247

Warren Co: Macomb MI 88397-5000

Landholding Agency: Army

Property Number: 21200520022

Status: Unutilized

Reason: Secured area

Minnesota

160 Bldgs.

Twin Cities Army Ammunition Plant

New Brighton Co: Ramsey MN 55112-

Landholding Agency: Army

Property Number: 219120166, 219210014-219210015, 219220227-219220235, 219240328, 219310056, 219320152-219320156, 219330096-219330106, 219340015, 219410159-219410189, 219420198- 219420283, 219430060-219430064, 21200130053-21200130054

Status: Unutilized

Reason: Secured area; (Most are within 2000 ft. of flammable or explosive material.); (Some are extensively deteriorated)

Missouri

83 Bldgs., Lake City Army Ammo. Plant

Independence Co: Jackson MO 64050-

Landholding Agency: Army

Property Number: 219013666-219013669, 219530134, 219530136, 21199910023-21199910035, 21199920082, 21200030049

Status: Unutilized

Reason: Secured area; (Some are within 2000 ft. of flammable or explosive material)

9 Bldgs.

St. Louis Army Ammunition Plant

4800 Goodfellow Blvd.

St. Louis Co: St. Louis MO 63120-1798

Landholding Agency: Army

Property Number: 219120067-219120068, 219610469-219610475

Status: Unutilized

Reason: Secured area; (Some are extensively deteriorated)

22 Bldgs., Fort Leonard Wood

Ft. Leonard Wood Co: Pulaski MO 65473-5000

Landholding Agency: Army

Property Number: 219430075, 21199910020-21199910021, 21200320025, 21200330028-21200330031, 21200430029, 21200530019

Status: Unutilized

Reason: Within 2000 ft. of flammable or explosive material (Some are extensively deteriorated)

Bldg. P4122, U.S. Army Reserve Center

St. Louis Co: St. Charles MO 63120-1794

Landholding Agency: Army

Property Number: 21200240055

Status: Unutilized

Reason: Extensive deterioration

Bldgs. P4074, P4072, P4073

St. Louis Ordnance Plant

St. Louis Co: St. Charles MO 63120-1794

Landholding Agency: Army

Property Number: 21200310019

Status: Unutilized

Reason: Extensive deterioration

Montana

Bldg. P0516, Fort Harrison

Ft. Harrison Co: Lewis/Clark MT 59636

Landholding Agency: Army

Property Number: 21200420104

Status: Excess

Reasons: Secured area; Extensive deterioration

Nevada

Bldg. 292

Hawthorne Army Ammunition Plant

Hawthorne Co: Mineral NV 89415-

Landholding Agency: Army

Property Number: 219013614

Status: Unutilized

Reason: Secured area

39 Bldgs.

Hawthorne Army Ammunition Plant

Hawthorne Co: Mineral NV 89415-

Landholding Agency: Army

Property Number: 219012013, 219013615-219013643,

Status: Underutilized

Reason: Secured area (Some within airport runway clear zone; many within 2000 ft. of flammable or explosive material)

Group 101, 34 Bldgs.

Hawthorne Army Ammunition Plant

Co: Mineral NV 89415-0015

Landholding Agency: Army

Property Number: 219830132

Status: Unutilized

Reason: Within 2000 ft. of flammable or explosive material; Secured area

New Jersey

173 Bldgs., Picatinny Arsenal

Dover Co: Morris NJ 07806-5000

Landholding Agency: Army

Property Number: 219010444-219010474, 219010639-219010664, 219010680-219010715, 219012428, 219012430, 219012433-219012465, 219012469, 219012475, 219012765, 00219014306, 219014311, 219014317, 219140617, 219230123, 219420006, 219530147, 219540005, 219540007, 219740113-219740127, 21199940094-21199940099, 21200130057-21200130063, 21200220063, 21200230072-21200230075, 21200330047-21200330063, 21200410043-21200410044, 21200520024-21200520039, 21200530022-21200530028

Status: Excess

Reason: Secured area; (Most are within 2000 ft. of flammable or explosive material) (Some are extensively deteriorated and in a floodway)

7 Bldgs., Ft. Monmouth

Ft. Monmouth Co: NJ 07703

Landholding Agency: Army

Property Number: 21200430030, 21200440033, 21200510025-21200510027

Status: Unutilized

Reason: Extensive deterioration

Bldg. 4404, Fort Dix

Ft. Dix Co: Burlington NJ 08640-5506

Landholding Agency: Army

Property Number: 21200530020

Status: Unutilized

Reason: Extensive deterioration

New Mexico

164 Bldgs.

White Sands Missile Range

Dona Ana Co: NM 88002

Landholding Agency: Army

Property Number: 21200410045-21200410049, 21200440034-21200440045

Status: Excess

Reason: Secured area

New York

Bldg. 12, Watervliet Arsenal

Watervliet NY

Landholding Agency: Army

Property Number: 219730099

Status: Unutilized

Reason: Extensive deterioration; Secured area

13 Bldgs., Youngstown Training Site

Youngstown Co: Niagara NY 14131

Landholding Agency: Army

Property Number: 21200220064-21200220069

Status: Unutilized

Reason: Extensive deterioration

Bldgs. 1716, 3014, 3018 U.S. Military Academy

West Point Co: NY 10996

Landholding Agency: Army

Property Number: 21200330064, 21200410050, 21200520040

Status: Unutilized

Reason: Extensive deterioration

66 Bldgs., Fort Drum

Ft. Drum Co: Jefferson NY 13602

Landholding Agency: Army

Property Number: 21200340027-21200340029, 21200410051, 21200420112-21200420128, 21200440046, 21200520041-21200520047, 21200530021

Status: Unutilized

Reason: Extensive deterioration

Bldg. 108, Fredrick J ILL, Jr. USARC

Bullville Co: Orange NY 10915-0277

Landholding Agency: Army

Property Number: 21200510028

Status: Unutilized

Reason: Secured area

Bldgs. 107, 112, 113

Kerry P. Hein USARC NY058

Shoreham Co: Suffolk NY 11778-9999

Landholding Agency: Army

Property Number: 21200510054

Status: Excess

Reason: Secured area

North Carolina

193 Bldgs. Fort Bragg

Ft. Bragg Co: Cumberland NC 28307

Landholding Agency: Army

Property Number: 219640074, 219710102-219710111, 219710224, 219810167, 21200040035, 21200140064, 21200340031-21200340045, 21200410056, 21200420130, 21200430042, 21200440047-21200440051, 21200530029-21200530049

Status: Unutilized

Reason: Extensive deterioration

3 Bldgs., Military Ocean Terminal

Southport Co: Brunswick NC 28461-5000

Landholding Agency: Army

Property Number: 219810158-219810160, 21200330032

Status: Unutilized

Reason: Secured area

North Dakota

Bldgs. 440, 455, 456, 3101, 3110

Stanley R. Mickelsen

Nekoma Co: Cavalier ND 58355

Landholding Agency: Army

Property Number: 21199940103-21199940107

Status: Unutilized

Reason: Extensive deterioration

Ohio

186 Bldgs.

Ravenna Army Ammunition Plant

Ravenna Co: Portage OH 44266-9297

Landholding Agency: Army

Property Number: 21199840069- 21199840104, 21200240064, 21200420131-21200420132, 21200530051-21200530052

Status: Unutilized

Reason: Secured area

7 Bldgs., Lima Army Tank Plant

Lima OH 45804-1898

Landholding Agency: Army

Property Number: 219730104-219730110

Status: Unutilized

Reason: Secured area

Bldgs. T92, T93, T94, Defense Supply Center

Columbus Co: Franklin OH 43216

Landholding Agency: Army

Property Number: 21200530050

Status: Unutilized

Reasons: Secured area; Extensive deterioration

Oklahoma

26 Bldgs., Fort Sill

Lawton Co: Comanche OK 73503

Landholding Agency: Army

Property Number: 219510023, 21200330065, 21200430043, 21200530053-21200530060

Status: Unutilized

Reason: Extensive deterioration

Bldgs. MA050, MA070, Regional Training Institute

Oklahoma City Co: OK 73111

Landholding Agency: Army

Property Number: 21200440052

Status: Unutilized

Reason: Extensive deterioration

Bldgs. GRM03, GRM24, GRM26, GRM34

Camp Gruber Training Site

Braggs Co: OK 74423

Landholding Agency: Army

Property Number: 21200510029-21200510032

Status: Unutilized

Reason: Extensive deterioration

22 Bldgs., McAlester Army Ammo Plant

McAlester Co: Pittsburg OK 74501

Landholding Agency: Army

Property Number: 21200510033-21200510039, 21200520048

Status: Excess

Reason: Secured area

Oregon

11 Bldgs.

Tooele Army Depot

Umatilla Depot Activity

Hermiston Co: Morrow/Umatilla OR 97838

Landholding Agency: Army

Property Number: 219012174-219012176, 219012178-219012179, 219012191, 219012197- 219012198, 219012217, 219012229

Status: Underutilized

Reason: Secured area

34 Bldgs.

Tooele Army Depot

Umatilla Depot Activity

Hermiston Co: Morrow/Umatilla OR 97838-Landholding Agency: Army

Property Number: 219012177, 219012185-219012186, 219012189, 219012196, 219012199-219012205, 219012207-219012208, 219012225, 219012279, 219014304-219014305, 219014782, 219030362-219030363, 219120032, 21199840108-21199840110, 21199920084-21199920090

Status: Unutilized

Reason: Secured area

Pennsylvania

23 Bldgs., Fort Indiantown Gap

Annville Co: Lebanon PA 17003-5011

Landholding Agency: Army

Property Number: 219810183-219810190

Status: Unutilized

Reason: Extensive deterioration

2 Bldgs.

Defense Distribution Depot

New Cumberland Co: York PA 17070-5001

Landholding Agency: Army

Property Number: 21200430044, 21200510041

Status: Unutilized

Reason: Secured area (Some are extensively deteriorated)

8 Bldgs., Tobyhanna Army Depot

Tobyhanna Co: Monroe PA 18466

Landholding Agency: Army

Property Number: 21200330068, 21200440053-21200440054, 21200510040

Status: Unutilized

Reason: Extensive deterioration

Bldg. 01003, C.E. Kelly Support Facility

Neville Island Co: Allegheny PA 15225

Landholding Agency: Army

Property Number: 21200330069

Status: Unutilized

Reason: Extensive deterioration

28 Bldgs.

Letterkenny Army Deport

Chambersburg Co: Franklin PA 17201

Landholding Agency: Army

Property Number: 21200420134-21200420144, 21200430045-21200430051

Status: Unutilized

Reasons: Within 2000 ft. of flammable or explosive material; Secured area; Extensive deterioration

Bldgs. 00014, 00033, 00044

CE Kelly Support Facility

Oakdale Co: Allegheny PA 15071

Landholding Agency: Army

Property Number: 21200420153-21200420155

Status: Unutilized

Reason: Secured area

5 Bldgs., Carlisle Barracks

Cumberland Co: PA 17013

Landholding Agency: Army

Property Number: 21200440055-21200440056, 21200520049

Status: Excess

Reason: Extensive deterioration

Puerto Rico

128 Bldgs., Fort Buchanan

Guaynabo Co: PR 00934

Landholding Agency: Army

Property Number: 21200330077-21200330092, 21200340052-21200340055, 21200420156-21200420160, 21200530061-21200530063

Status: Unutilized

Reason: Secured area (Some are extensively deteriorated)

South Carolina

41 Bldgs., Fort Jackson

Ft. Jackson Co: Richland SC 29207

Landholding Agency: Army

Property Number: 219440237, 219440239, 219620312, 219620317, 219620348, 219620351, 219640138-219640139, 21199640148-21199640149, 219720095, 219720097, 219730130, 219730132, 219730145-219730157, 219740138, 219820102-219820111, 219830139-219830157, 21200520050

Status: Unutilized

Reason: Extensive deterioration

Tennessee

79 Bldgs.

Holston Army Ammunition Plant

Kingsport Co: Hawkins TN 61299-6000

Landholding Agency: Army

Property Number: 219012304-219012309, 219012311-219012312, 219012314, 219012316-219012317, 219012328, 219012330, 219012332, 219012334, 219012337, 219013790, 219140613, 219440212-219440216, 219510025-219510027, 21200230035, 21200310040, 21200320054-21200320073, 21200340056, 21200510042, 21200530064-21200530065

Status: Unutilized

Reason: Secured area (Some are within 2000 ft. of flammable or explosive material)

47 Bldgs.

Milan Army Ammunition Plant

Milan Co: Gibson TN 38358

Landholding Agency: Army

Property Number: 219240447-219240449, 21200440059-21200440061, 21200520051-21200520052

Status: Unutilized

Reason: Secured area (Some are extensively deteriorated)

Bldg. Z-183A

Milan Army Ammunition Plant

Milan Co: Gibson TN 38358

Landholding Agency: Army

Property Number: 219240783

Status: Unutilized

Reason: Within 2000 ft. of flammable or explosive material

68 Bldgs.

Fort Campbell

Ft. Campbell Co: Montgomery TN 42223

Landholding Agency: Army

Property Number: 21200220023, 21200240065, 21200330094-21200330100, 21200430052-2100430054, 21200440057-21200440058, 21200510043, 21200520053-21200520062

Status: Unutilized

Reason: Extensive deterioration

Texas

20 Bldgs.

Lone Star Army Ammunition Plant

Highway 82 West

Texarkana Co: Bowie TX 75505-9100

Landholding Agency: Army

Property Number: 219012524, 219012529, 219012533, 219012536, 219012539-219012540, 219012542, 219012544-219012545, 219030337-219030345

Status: Unutilized

Reason: Within 2000 ft. of flammable or explosive material; Secured area

154 Bldgs.

Longhorn Army Ammunition Plant

Karnack Co: Harrison TX 75661

Landholding Agency: Army

Property Number: 219620827, 21200340062-21200340073

Status: Unutilized

Reason: Secured area (Most are within 2000 ft. of flammable or explosive material)

16 Bldgs., Red River Army Depot

Texarkana Co: Bowie TX 75507-5000

Landholding Agency: Army

Property Number: 219420315-219420327, 219430095-219430097

Status: Unutilized

Reason: Secured area; (Some are extensively deteriorated)

85 Bldgs. Fort Bliss

El Paso Co: El Paso TX 79916

Landholding Agency: Army

Property Number: 219730160-219730186, 219830161-219830197, 21200310044, 21200320079, 21200340059

Status: Unutilized

Reason: Extensive deterioration

8 Bldgs., Grand Prairie Reserve Complex

Grand Prairie Co: Tarrant TX 75050

Landholding Agency: Army

Property Number: 21200330101-21200330103, 21200340061, 21200420152

Status: Unutilized

Reason: Secured area

6 Bldgs., Fort Hood

Ft. Hood Co: Bell TX 76544

Landholding Agency: Army

Property Number: 21200420146-21200420147

Status: Unutilized

Reason: Extensive deterioration

Bldgs. 05110, 06088, Fort Sam Houston

Camp Bullis Co: Bexar TX

Landholding Agency: Army

Property Number: 21200520063

Status: Excess

Reason: Extensive deterioration

Utah

26 Bldgs.

Tooele Army Depot

Tooele Co: Tooele UT 84074-5008

Landholding Agency: Army

Property Number: 219012166, 219012751, 21200440063-21200440065

Status: Unutilized

Reason: Secured area

Bldg. 9307

Dugway Proving Ground

Dugway Co: Toole UT 84022-

Landholding Agency: Army

Property Number: 219013997

Status: Underutilized

Reason: Secured area

Bldgs. 3102, 5145, 8030

Deseret Chemical Depot

Tooele UT 84074

Landholding Agency: Army

Property Number: 219820119-219820121

Status: Unutilized

Reason: Secured area; Extensive deterioration

Bldgs. 00259, 00206

Ogden Maintenance Center

Weber Co: UT 84404

Landholding Agency: Army

Property Number: 21200530066

Status: Excess

Reason: Secured area

Virginia

348 Bldgs.

Radford Army Ammunition Plant

Radford Co: Montgomery VA 24141-

Landholding Agency: Army

Property Number: 219010833, 219010836, 219010842, 219010844, 219010847-219010890, 219010892-219010912, 219011521-219011577, 219011581-219011583, 219011585, 219011588, 219011591, 219013559-219013570, 219110142-219110143, 219120071, 219140618-219140633, 219220210-219220218, 219230100-219230103, 219240324, 219440219-219440225, 219510031-219510033, 219520037, 219520052, 219530194, 219610607-219610608, 219830223-219830267, 21200020079-21200020081, 21200230038, 21200240071-21200240072, 21200510045-21200510046

Status: Unutilized

Reason: Within 2000 ft. of flammable or explosive material; Secured area; (Some are extensively deteriorated)

13 Bldgs.

Radford Army Ammunition Plant

Radford Co: Montgomery VA 24141-

Landholding Agency: Army

Property Number: 219010834-219010835, 219010837-219010838, 219010840-219010841, 219010843, 219010845-219010846, 219010891, 219011578-219011580

Status: Unutilized

Reason: Within 2000 ft. of flammable or explosive material; Secured area; Latrine, detached structure

38 Bldgs.

U.S. Army Combined Arms Support Command

Fort Lee Co: Prince George VA 23801-

Landholding Agency: Army

Property Number: 219240107, 219330210, 219330225-219330228, 219610597, 219620866-219620876, 219630115, 219740156, 219830208-219830210, 21199940130, 21200110064, 21200340074, 21200430058-21200430060, 21200510050, 21200520064-21200520065

Status: Unutilized

Reason: Extensive deterioration; (Some are in a secured area)

56 Bldgs.

Red Water Field Office

Radford Army Ammunition Plant

Radford VA 24141

Landholding Agency: Army

Property Number: 219430341-219430396

Status: Unutilized

Reason: Within 2000 ft. of flammable or explosive material; Secured area

84 Bldgs.

Fort A.P. Hill

Bowling Green Co: Caroline VA 22427

Landholding Agency: Army

Property Number: 21200310058-21200310060, 21200410068-21200410077, 21200430057, 21200510051

Status: Unutilized

Reason: Secured area; Extensive deterioration

13 Bldgs.

Fort Belvoir

Ft. Belvoir Co: Fairfax VA 22060-5116

Landholding Agency: Army

Property Number: 21199910050-21199910051, 21199920107, 21199940117-21199940120, 21200030063-21200030064, 21200130075-21200130077, 21200530071

Status: Unutilized

Reason: Extensive deterioration

6 Bldgs., Fort Eustis

Ft. Eustis Co. VA 23604

Landholding Agency: Army

Property Number: 21200210025-21200210026

Status: Unutilized

Reason: Extensive deterioration

Bldgs. 448, 501

Fort Myer

Ft. Myer Co: Arlington VA 22211-1199

Landholding Agency: Army

Property Number: 21200010069, 21200510044

Status: Underutilized

Reason: Extensive deterioration

5 Bldgs.

Fort Monroe

Ft. Monroe Co: VA 23651

Landholding Agency: Army

Property Number: 21200410067, 21200430056, 21200510047-21200510049

Status: Excess

Reason: Extensive deterioration

51 Bldgs.

Fort Pickett

Blackstone Co: Nottoway VA 23824

Landholding Agency: Army

Property Number: 21200220087-21200220092, 21200320080-21200320087

Status: Unutilized

Reason: Extensive deterioration

Bldg. 00723

Fort Story

Ft. Story Co: Princess Ann VA 23459

Landholding Agency: Army

Property Number: 21200310046

Status: Unutilized

Reason: Extensive deterioration

5 Bldgs.

Defense Supply Center 00021, S0096, 00185, 00715, 00716

Richmond Co: Chesterfield VA 23297

Landholding Agency: Army

Property Number: 21200530067-21200530070

Status: Unutilized

Reason: Secured area

Washington

663 Bldgs.

Fort Lewis

Ft. Lewis Co: Pierce WA 98433-5000

Landholding Agency: Army

Property Number: 219610006, 219610009-219610010, 219610045-219610046, 219620512-219620517, 219640193, 219720142-219720151, 219810205-219810242, 219820132, 21199910064-21199910078, 21199920125-21199920174, 21199930080-21199930104, 21199940134, 21200120068, 21200140072-21200140073, 21200210075, 21200220097, 21200330104-21200330106, 21200430061

Status: Unutilized

Reason: Secured area; Extensive deterioration

Bldg. HBC07

Fort Lewis

Huckleberry Creek Mountain Training Site

Co: Pierce WA

Landholding Agency: Army

Property Number: 219740166

Status: Unutilized

Reason: Extensive deterioration

Bldg. 415

Fort Worden

Port Angeles Co: Clallam WA 98362

Landholding Agency: Army

Property Number: 21199910062

Status: Excess

Reason: Extensive deterioration

Bldg. U515A

Fort Lewis

Ft. Lewis Co: Pierce WA 98433

Landholding Agency: Army

Property Number: 21199920124

Status: Excess

Reason: Gas chamber

Bldgs. 02401, 02402

Vancouver Barracks Cemetery

Vancouver Co: WA 98661

Landholding Agency: Army

Property Number: 21200310048

Status: Unutilized

Reason: Extensive deterioration

4 Bldgs.

Renton USARC

Renton Co: WA 980058

Landholding Agency: Army

Property Number: 21200310049

Status: Unutilized

Reason: Extensive deterioration

Wisconsin

5 Bldgs.

Badger Army Ammunition Plant

Baraboo Co: Sauk WI 53913-

Landholding Agency: Army

Property Number: 219011209-219011212, 219011217

Status: Underutilized

Reason: Within 2000 ft. of flammable or explosive material; Friable asbestos; Secured area

153 Bldgs.

Badger Army Ammunition Plant

Baraboo Co: Sauk WI 53913-

Landholding Agency: Army

Property Number: 219011104, 219011106, 219011108-219011113, 219011115-219011117, 219011119-219011120, 219011122-219011139, 219011141-219011142, 219011144, 219011148-219011208, 219011213-219011216, 219011218-219011234, 219011236, 219011238, 219011240, 219011242, 219011244, 219011247, 219011249, 219011251, 219011256, 19011259, 219011263, 219011265, 219011268, 219011270, 219011275, 219011277, 219011280, 219011282, 219011284, 219011286, 219011290, 219011293, 219011295, 219011297, 219011300, 219011302, 219011304-219011311, 219011317, 219011319-219011321, 219011323

Status: Unutilized

Reason: Within 2000 ft. of flammable or explosive material; Friable asbestos; Secured area

4 Bldgs.

Badger Army Ammunition Plant

Baraboo Co: Sauk WI

Landholding Agency: Army

Property Number: 219013871-219013873, 219013875

Status: Underutilized

Reason: Secured area

906 Bldgs.

Badger Army Ammunition Plant

Baraboo Co: Sauk WI

Landholding Agency: Army

Property Number: 219013876-219013878, 219210097-219210099, 219220295-219220311, 219510065, 219510067, 219510069-219510077, 219740184-219740271, 21200020083-21200020155, 21200240074-21200240080

Status: Unutilized

Reason: (Most are in a secured area); (Most are within 2000 ft. of flammable or explosive material); (Some are extensively deteriorated)

Land (by State)

Indiana

Newport Army Ammunition Plant

East of 14th St. & North of S. Blvd.

Newport Co: Vermillion IN 47966-

Landholding Agency: Army

Property Number: 219012360

Status: Unutilized

Reason: Within 2000 ft. of flammable or explosive material; Secured area

Maryland

Carroll Island, Graces Quarters

Aberdeen Proving Ground

Edgewood Area

Aberdeen City Co: Harford MD 21010-5425

Landholding Agency: Army

Property Number: 219012630, 219012632

Status: Underutilized

Reason: Floodway; Secured area

15 acres, Fort Meade

Ft. Meade Co: MD 20755-5115

Landholding Agency: Army

Property Number: 21200440031

Status: Unutilized

Reason: Secured area

Minnesota

Portion of R.R. Spur

Twin Cities Army Ammunition Plant

New Brighton Co: Ramsey MN 55112

Landholding Agency: Army

Property Number: 219620472

Status: Unutilized

Reason: Landlocked

New Jersey

Land

Armament Research Development & Eng. Center

Route 15 North

Picatinny Arsenal Co: Morris NJ 07806-

Landholding Agency: Army

Property Number: 219013788

Status: Unutilized

Reason: Secured area

Spur Line/Right of Way

Armament Rsch., Dev., & Eng. Center

Picatinny Arsenal Co: Morris NJ 07806-5000

Landholding Agency: Army

Property Number: 219530143

Status: Unutilized

Reason: Floodway

2.0 Acres, Berkshire Trail

Armament Rsch., Dev., & Eng. Center

Picatinny Arsenal Co: Morris NJ 07806-5000

Landholding Agency: Army

Property Number: 21199910036

Status: Underutilized

Reasons: Within 2000 ft. of flammable or explosive material; Secured area

Texas

Land—Approx. 50 acres

Lone Star Army Ammunition Plant

Texarkana Co: Bowie TX 75505-9100

Landholding Agency: Army

Property Number: 219420308

Status: Unutilized

Reason: Secured area

[FR Doc. 05-16714 Filed 8-25-05; 8:45 am]

BILLING CODE 4210-29-P